NATIONAL TRANSPORTATION SAFETY BOARD

Privacy Act of 1974, as Amended; Addition of New Systems of Records and Revisions to Existing Systems of Records

ACTION: Notice of new and revised systems of records.

SUMMARY: The NTSB previously published notices describing the systems of records it maintains pursuant to the Privacy Act of 1974. The NTSB will add 21 new systems of records. This notice also revises and republishes nine existing systems of records to update various system elements and to reference the routine uses listed in Appendix A, below. The NTSB publishes this notice for comment on these actions.

DATES: This action will be effective without further notice 30 days from the date of publication in the Federal Register, unless the NTSB receives comments that result in a contrary determination.

ADDRESSES: You may send written comments using any of the following methods:

1. Government-wide rulemaking Web site: Go to http://www.regulations.gov and follow the instructions for sending your comments electronically.

2. Mail: Mail comments concerning this notice to Melba Moye, CIO-40, National Transportation Safety Board, 490 L'Enfant Plaza, SW., Washington, DC 20594-2000.

3. Fax: (202) 314-6132, Attention: Melba Moye.

4. Hand Delivery: 6th Floor, 490 L'Enfant Plaza, SW., Washington, DC, between 9 a.m. and 5 p.m., Monday through Friday, except Federal holidays.

All comments received will be available for public inspection at the above address.

FOR FURTHER INFORMATION CONTACT: Melba Moye, Office of Chief Information Officer, Records Management Division, (202) 314-6555.

SUPPLEMENTARY INFORMATION: In accordance with the Privacy Act of 1974, as amended (codified at 5 U.S.C. 552a), the NTSB will add the description of 21 new systems of records, revise nine systems of records, and delete two systems of records. This Notice describes each system of records, pursuant to 5 U.S.C. 552a(e)(4).

• The first new system of records will be designated as NTSB-12 and entitled, “Employee Travel Card Records,” to obtain and oversee credit cards to facilitate NTSB employees' official travel.

• The second new system of records will be designated as NTSB-13 and entitled, “Airmen or Mariner Certificate Enforcement Actions,” to accomplish its review of actions that the Federal Aviation Administration or United States Coast Guard has taken against certificates of airmen or mariners.

• The third new system of records will be designated as NTSB-14 and entitled, “Information Request Database,” to provide individuals with publicly available information that the NTSB disseminates, upon an individual's request.

• The fourth new system of records will be designated as NTSB-15 and entitled, “Local Area Network Database,” to control access to the NTSB computer network and use of NTSB computer applications.

• The fifth new system of records will be designated as NTSB-16 and entitled, “Correspondence Control Database,” to verify receipt, generate a response, and establish a record of certain official correspondence.

• The sixth new system of records will be designated as NTSB-17 and entitled, “Office of Transportation Disaster Assistance Family Member Database,” to communicate with and provide information to victims and victims' family members who have been affected by a transportation accident that the NTSB investigated.

• The seventh new system of records will be designated as NTSB-18 and entitled, “Correspondence from Members of Congress,” to respond to inquiries from Members or Committees of Congress, and, in some cases, Members' constituents.

• The eighth new system of records will be designated NTSB-19 and entitled, “Training Center Student Registration Database,” to register students for courses at the NTSB Training Center.

• The ninth new system of records will be designated NTSB-20 and entitled, “Public Affairs Phone Log,” to maintain a log of telephone activity in which the NTSB Office of Public Affairs engages.

• The tenth new system of records will be designated NTSB-21 and entitled, “Respiratory Protection Program Records,” to document employee medical qualifications and training for respirator usage pursuant to regulatory requirements of the Office of Safety and Health Administration (OSHA).

• The eleventh new system of records will be designated as NTSB-22 and entitled, “Occupational Health and Safety Training Program,” to document employee safety and health training in accordance with regulatory requirements from OSHA.

• The twelfth new system of records will be designated as NTSB-23 and entitled, “Transit Subsidy Program Records,” to provide transit subsidy benefits to NTSB employees who are eligible to receive such benefits.

• The thirteenth new system of records will be designated as NTSB-24 and entitled, “Facility Security Access Control System,” to provide individuals with an electronic keycard to access secured office space and areas within NTSB offices.

• The fourteenth new system of records will be designated as NTSB-25 and entitled, “Employee Purchase Card Holders,” to track, control, and manage a purchase charge card program involving commercial purchases that the NTSB allows certain employees to make on behalf of the NTSB.

• The fifteenth new system of records will be designated as NTSB-26 and entitled, “Office of Workers' Compensation Claim Records,” to collect and maintain information necessary for reviewing and acting on workers' compensation claims after an individual reports an occupational injury or illness.

• The sixteenth new system of records will be designated as NTSB-27 and entitled, “Employee Performance Folders,” to maintain factual information regarding employees' performance, as documented in awards, performance appraisals, and other such records.

• The seventeenth new system of records will be designated as NTSB-28 and entitled, “Employee Medical Folders,” to maintain necessary information about medical conditions that an employee may have.

• The eighteenth new system of records will be designated as NTSB-29 and entitled, “Job Application and Merit Promotion Files,” to process job applications in response to vacancy announcements, and for merit promotion within the NTSB.

• The nineteenth new system of records will be designated as NTSB-30 and entitled, “Training Records,” to maintain a listing of individuals' training so that the NTSB can accurately assess skill levels and develop future training initiatives.

• The twentieth new system of records will be designated as NTSB-31 and entitled, “Labor-Management Relations Records,” to comply with statutory and regulatory requirements applicable to Federal agencies with regard to organized labor.

• The twenty-first new system of records will be designated as NTSB-32 and entitled, “Public Financial Disclosure Reports and Other Name-Retrieved Ethics Program Records,” to comply with the Ethics in Government Act of 1978, as amended, and other relevant statutes, Executive Orders, and implementing regulations.

The NTSB will also revise nine of its existing Systems of Record Notices, and delete two systems of records. These revisions will each include references to the routine uses listed in Appendix A of this Notice, as well as updated safeguards for information, updated contact information, and the like. For ease of reference, a new notification describing each system is included below. Finally, the NTSB will delete two existing Systems of Records Notices concerning systems that the NTSB no longer maintains.

These systems were entitled, NTSB-1, “Claimants under the Federal Tort Claims Act,” and NTSB-9, “Employee Locator Cards.”

Finally, the NTSB notes that each of the descriptions below includes a reference to the Chief of the NTSB's Records Management Division. Individuals may request access to or amendment of records pertaining to themselves by contacting the Chief of the NTSB's Records Management Division, or the Chief's designee. Several descriptions also reference particular General Records Schedules; these Schedules are from the National Archives and Records Administration (NARA), and are available on the NARA Web site.

Table of Contents: NTSB Systems of Records

NTSB-1 (Revoked)

NTSB-2 Official Personnel Folders

NTSB-3 Personnel Security and Investigative Records

NTSB-4 Employee Travel Records

NTSB-5 Executive Branch Confidential Financial Disclosure Reports

NTSB-6 Employee Payroll, Leave, and Attendance Records

NTSB-7 Equal Employment Opportunity (EEO) Discrimination Complaint Records

NTSB-8 FOIA and Privacy Act Request Records

NTSB-9 (Revoked)

NTSB-10 Employee Records of Disciplinary Action, Adverse Action, and Grievance and Appeal Files

NTSB-11 Parking Permit Records

NTSB-12 Employee Travel Card Records

NTSB-13 Airman or Mariner Certificate Enforcement Actions

NTSB-14 Information Request Database

NTSB-15 Local Area Network Database

NTSB-16 General Correspondence Database

NTSB-17 Office of Transportation Disaster Assistance Family Member Database

NTSB-18 Correspondence From Members of Congress

NTSB-19 Training Center Student Registration Database

NTSB-20 Public Affairs Phone Log

NTSB-21 Respiratory Protection Program Records

NTSB-22 Occupational Health and Safety Training Program

NTSB-23 Transit Subsidy Program Records

NTSB-24 Facility Security Access Control System

NTSB-25 Employee Purchase Card Holders

NTSB-26 Office of Workers' Compensation Claim Records

NTSB-27 Employee Performance Folders

NTSB-28 Employee Medical Folders

NTSB-29 Job Application and Merit Promotion Files

NTSB-30 Training Records

NTSB-31 Labor-Management Relations Records

NTSB-32 Public Financial Disclosure Reports and Other Name-Retrieved Ethics Program Records

Appendix A: General Routine Uses Applicable to All Systems of Records

Appendix B: Government-Wide Systems of Records Applicable to the NTSB

NTSB-2

SYSTEM NAME:

Official Personnel Folders.

SYSTEM LOCATION:

Records regarding current NTSB employees are located at: National Transportation Safety Board, Human Resources Division, 490 L'Enfant Plaza, SW., Washington, DC 20594. Records regarding former NTSB employees who have not transferred to another Federal agency are located at the National Personnel Records Center, National Archives and Records Administration, 111 Winnebago Street, St. Louis, Missouri 63118.

CATEGORIES OF INDIVIDUALS COVERED BY THE SYSTEM:

Current and certain former NTSB employees.

CATEGORIES OF RECORDS IN THE SYSTEM:

Records include employee's name, Social Security number, date of birth, home address, home telephone number, and specialized education. Records reflect Federal service and work experience, including past and present positions held, grades, salaries, duty station locations, and notices of all personnel actions, such as appointments, promotions, reassignments, demotions, details, transfers, reductions-in-force, resignations, retirements, removal, and suspensions. Records also include information concerning election and/or waiver of Federal benefits, including employees' designation of beneficiaries for these and other programs.

AUTHORITY FOR MAINTENANCE OF THE SYSTEM:

5 U.S.C. 301 et seq., 1302, 2951, 3301, 4118, 8347; 5 CFR part 293; Executive Order Nos. 9,397, 9,830, and 12,107.

PURPOSE(S):

This system contains basic factual data concerning a person's Federal employment while in service. Records in this system have several uses, such as screening qualifications of employees; determining status, eligibility, and employees' rights and benefits under statutes and regulations applicable to Federal employment; and computing an employee's length of service and other such details. Overall, information in this system is necessary to fulfill several requirements of the above-listed statutes, regulations, and Executive Orders.

ROUTINE USES OF RECORDS MAINTAINED IN THE SYSTEM, INCLUDING CATEGORIES OF USERS, AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure to educational institutions on appointment of a recent graduate to a position in the Federal service;

2. Disclosure to the Office of Federal Employees Life Insurance or health insurance carriers to provide benefit information on Federal employees; and

3. Disclosure to officials of labor organizations under 5 U.S.C. chapter 71, when relevant and necessary to the organizations' duties of exclusive representation concerning personnel policies, practices, and matters affecting working conditions.

4. Disclosure to the Office of Personnel Management or other investigative agencies for suitability and national security background investigations.

DISCLOSURE TO CONSUMER REPORTING AGENCIES:

None.

POLICIES AND PRACTICES FOR STORING, RETRIEVING, ACCESSING, RETAINING, AND DISPOSING OF RECORDS IN THE SYSTEM

STORAGE:

Records are stored on paper in file folders within the Human Resources Division of the NTSB, at the address above.

RETRIEVABILITY:

These records are retrieved by the name, Social Security number, or date of birth of the individuals about whom they concern.

SAFEGUARDS:

Records are maintained in locked file cabinets that are restricted through electronic keycards to enter the facility where records are located. Access to and use of these records is limited to those persons whose official duties require such access, and the Facility Security Access Control System (NTSB-24) logs the date and time that each electronic keycard was used to enter the location.

This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB maintains records within this system for the period of the employee's service at the NTSB. When an employee leaves the NTSB to begin employment at another Federal agency, the NTSB transfers these records to the employee's new Federal agency. When an employee retires, resigns, or dies, the NTSB forwards the employee's record to the National Personnel Records Center for permanent storage, in accordance with General Records Schedule 1, item 1.

SYSTEM MANAGER(S) AND ADDRESS:

Chief, Human Resources Division, National Transportation Safety Board, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date of birth;

3. Social Security number;

4. Dates of employment; and

5. Signature.

RECORD ACCESS PROCEDURE:

Same as “Notification Procedure.”

CONTESTING RECORD PROCEDURE:

Same as “Notification Procedure.”

RECORD SOURCE CATEGORIES:

Information in this system is obtained from the individual to whom the record pertains and NTSB officials responsible for pay, leave, and activity reporting requirements.

EXEMPTIONS CLAIMED FOR THIS SYSTEM:

None.

NTSB-3

SYSTEM NAME:

Personnel Security and Investigative Records.

SYSTEM LOCATION:

National Transportation Safety Board, Human Resources Division, 490 L'Enfant Plaza, SW., Washington, DC 20594.

CATEGORIES OF INDIVIDUALS COVERED BY THE SYSTEM:

Employees, prospective employees, and potential contractors seeking access to sensitive materials or facilities.

CATEGORIES OF RECORDS IN THE SYSTEM:

Personnel security folders containing the results of name checks, inquiries, record checks, and investigations furnished by the Office of Personnel Management (OPM), the Federal Bureau of Investigation, or a private service provider. Information in these records may contain dates and places of birth, citizenship, marital status, military status, and Social Security records. In addition, these records may contain investigative information concerning an individual's character, conduct, and behavior, as well as arrests, convictions, or judgments regarding any legal or regulatory violations. Records may also contain information from current and former supervisors, colleagues, associates, and educators; in addition, records may contain financial or medical records and any other information developed from the records listed above.

AUTHORITY FOR MAINTENANCE OF THE SYSTEM:

Executive Order No. 10,450.

PURPOSE(S):

The NTSB maintains this system to determine whether the employment of a job applicant, or retention of a current employee, is in the interest of the Government, as well as which persons may have access to classified or sensitive material and access to other facilities.

ROUTINE USES OF RECORDS MAINTAINED IN THE SYSTEM, INCLUDING CATEGORIES OF USERS, AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure to other Federal agencies when necessary to allow the individual to access classified or sensitive material that other Federal agencies maintain;

2. Disclosure to other Federal agencies or private organizations when necessary to allow the individual to visit a certain facility or site; and

3. Disclosure to OPM, when necessary for an investigation, personnel matter, or an assessment of agency compliance with Federal personnel security and suitability program requirements.

DISCLOSURE TO CONSUMER REPORTING AGENCIES:

None.

POLICIES AND PRACTICES FOR STORING, RETRIEVING, ACCESSING, RETAINING, AND DISPOSING OF RECORDS IN THE SYSTEM:

STORAGE:

Records are stored on paper in file folders within the Human Resources Division or Office of Management at the NTSB, at the address above.

RETRIEVABILITY:

These records are retrieved by either the name or Social Security number of the individuals about whom they concern.

SAFEGUARDS:

Records are maintained in locked metal file cabinets that are restricted through electronic keycards to enter the facility where records are located. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB maintains records within this system in accordance with OPM directives and General Records Schedule 18, item 22. In general, the NTSB destroys records in this system once the records are obsolete or no longer warrant retention, such as at the conclusion of three years following the year that the employee departed from the NTSB. In the event that an employee accepts employment at another Federal agency, the NTSB may transfer the employee's file to that agency.

SYSTEM MANAGER(S) AND ADDRESS:

Chief, Human Resources Division, National Transportation Safety Board, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date of birth;

3. Social Security number;

4. Dates of employment; and

5. Signature.

RECORD ACCESS PROCEDURE:

Same as “Notification Procedure.”

CONTESTING RECORD PROCEDURE:

Same as “Notification Procedure.”

RECORD SOURCE CATEGORIES:

Information in this system is obtained from the individual to whom the record pertains, and may be obtained from NTSB officials, former employers, educational institutions, and individuals who are familiar with the individual, as well as officials from other Federal agencies.

EXEMPTIONS CLAIMED FOR THIS SYSTEM:

None.

NTSB-4

SYSTEM NAME:

Employee Travel Records.

SYSTEM LOCATION:

National Transportation Safety Board, 490 L'Enfant Plaza, SW., Washington, DC 20594. The National Business Center, which is a division of the Department of Interior, stores some information electronically off-site on behalf of the NTSB, at: National Business Center, DOI, Payroll Operations Division, Mail Stop D-2600, 7301 West Mansfield Avenue, Lakewood, Colorado 80235-2230. As described below, the National Business Center transfers the records to the Federal Records Center after the expiration of one year following the date of the employee's travel.

CATEGORIES OF INDIVIDUALS COVERED BY THE SYSTEM:

Employees who have traveled pursuant to authorized official business of the NTSB.

CATEGORIES OF RECORDS IN THE SYSTEM:

Travel vouchers, which include receipts for various expenditures.

AUTHORITY FOR MAINTENANCE OF THE SYSTEM:

Travel Expense Amendments Act of 1975, Public Law No. 94-22, 89 Stat. 84 (codified at 5 U.S.C. 5701-5707).

PURPOSE(S):

The NTSB maintains this system to determine and verify amounts to be paid to an employee for reimbursement of travel expenses from authorized and official travel on behalf of the NTSB.

ROUTINE USES OF RECORDS MAINTAINED IN THE SYSTEM, INCLUDING CATEGORIES OF USERS, AND THE PURPOSES OF SUCH USES:

In addition to the disclosures permitted under subsection (b) of the Privacy Act, and described in Appendix A, below, the NTSB may disclose information contained in this system of records without the consent of the subject individual if the disclosure is compatible with the purpose for which the record was collected under the following routine use:

• Disclosure to other Federal agencies that need the information for an audit or investigation.

DISCLOSURE TO CONSUMER REPORTING AGENCIES:

None.

POLICIES AND PRACTICES FOR STORING, RETRIEVING, ACCESSING, RETAINING, AND DISPOSING OF RECORDS IN THE SYSTEM:

STORAGE:

Records are scanned and saved in an electronic database. In addition, some copies of the records are stored on paper in file folders within the employee's office at the NTSB, at the address above.

RETRIEVABILITY:

These records are indexed by name.

SAFEGUARDS:

Paper records are maintained in locked file cabinets that are restricted through electronic keycards to enter the facility where records are located. Computerized records are maintained in secure, password protected computer systems. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

Pursuant to General Records Schedule 9, items 3 and 4, the NTSB maintains records for one year after payment of the allowable travel expenses; thereafter, the NTSB sends the records to the Federal Records Center, National Archives and Records Administration, which maintains the records for six years.

SYSTEM MANAGER(S) AND ADDRESS:

Chief Financial Officer, National Transportation Safety Board, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date of birth;

3. Social Security number;

4. Dates of employment; and

5. Signature.

RECORD ACCESS PROCEDURE:

Same as “Notification Procedure.”

CONTESTING RECORD PROCEDURE:

Same as “Notification Procedure.”

RECORD SOURCE CATEGORIES:

Information in this system is obtained from the individual to whom the record pertains.

EXEMPTIONS CLAIMED FOR THIS SYSTEM:

None.

NTSB-5

SYSTEM NAME:

Executive Branch Confidential Financial Disclosure Reports.

SYSTEM LOCATION:

National Transportation Safety Board, Office of General Counsel, 490 L'Enfant Plaza, SW., Washington, DC 20594.

CATEGORIES OF INDIVIDUALS COVERED BY THE SYSTEM:

Current and former NTSB employees who must submit confidential financial disclosure reports under the requirements of the Ethics in Government Act of 1978 (hereinafter “Ethics Act”), as amended, or to whom the Ethics Act otherwise applies. All such individuals are described in the categories listed in Government-wide system of records notice OGE/GOVT-2. The NTSB incorporates by reference the text of OGE/GOVT-2 into this Notice; as such, this Notice contains a summary of the information and provisions of OGE/GOVT-2 and descriptions of how NTSB-5 is consistent with OGE/GOVT-2, and identifies any differences between NTSB-5 and OGE/GOVT-2. OGE/GOVT-2 is available at 68 FR 3098 (Jan. 22, 2003), as updated at 68 FR 24744 (May 8, 2003).

CATEGORIES OF RECORDS IN THE SYSTEM:

This system contains information that is necessary for administration of all provisions of the Ethics Act and the Ethics Reform Act of 1989, as amended, and Executive Order 12,674, as modified. In particular, this system contains statements and amended statements of personal and family holdings and other interests in property; income; gifts and reimbursements; liabilities; agreements and arrangements; outside positions; and other information related to conflict-of-interest determinations. These statements may consist of certifications of no new interests for the reporting period, and may be supplemental or alternative confidential report forms.

AUTHORITY FOR MAINTENANCE OF THE SYSTEM:

Title I of the Ethics in Government Act of 1978, Public Law No. 95-521, 92 Stat. 1824 (codified as amended 5 U.S.C. 7301, 7351, 7353, and other scattered sections of 5 U.S.C.); 5 CFR part 2634; Executive Order 12,674 (as modified by Executive Order 12,731).

PURPOSE(S):

The NTSB collects the records in this system in order to comply with the Ethics Act, and implementing Office of Government Ethics (OGE) regulations and applicable Executive Orders. The collection of these records is necessary to assure compliance with statutory and regulatory requirements, to determine if an actual or apparent conflict of interest exists between the employment of individuals by the Federal Government and their outside employment and financial interests.

ROUTINE USES OF RECORDS MAINTAINED IN THE SYSTEM, INCLUDING CATEGORIES OF USERS, AND THE PURPOSES OF SUCH USES:

The NTSB notes that, when the Director or other authorized officials of OGE requests that the NTSB furnish OGE with records from this system, such disclosure will be in response to OGE's need for the records in the performance of their official duties under the Ethics Act, and other related statutes, regulations, and Executive Orders, pursuant to 5 U.S.C. 552a(b)(1). In addition to other disclosures permitted under subsection (b) of the Privacy Act, and described in Appendix A, below, the NTSB may disclose information contained in this system of records without the consent of the subject individual if the disclosure is compatible with the purpose for which the record was collected under the following routine use:

1. Disclosure of information to any source when necessary to obtain information relevant to a conflict-of-interest investigation or determination; and

2. Disclosure of the confidential financial disclosure report or certificate of no new interests and any accompanying documents to reviewing officials in a new office, department, or agency when an employee transfers or is detailed from a covered position in one office, department, or agency to a covered position in another office, department, or agency.

DISCLOSURE TO CONSUMER REPORTING AGENCIES:

None.

POLICIES AND PRACTICES FOR STORING, RETRIEVING, ACCESSING, RETAINING, AND DISPOSING OF RECORDS IN THE SYSTEM:

STORAGE:

The NTSB maintains these records on paper in file folders.

RETRIEVABILITY:

Records in this system are indexed alphabetically by name.

SAFEGUARDS:

Records are maintained in locked file cabinets that are restricted through electronic keycards to enter the facility where records are located. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

In accordance with General Records Schedule 25, the NTSB retains these records for a period of six years after filing, or for such other period of time as set forth in Schedule 25 for certain types of ethics records. The NTSB may retain records needed in an ongoing investigation for a period that exceeds six years, until the investigation no longer requires such records. At the expiration of the retention period, the NTSB destroys these records by shredding them.

SYSTEM MANAGER(S) AND ADDRESS:

Designated Agency Ethics Official, National Transportation Safety Board, 490 East L'Enfant Plaza, SW., Washington, DC 20594.

NOTIFICATION PROCEDURE:

Individuals wishing to inquire about whether this system of records contains information about them may contact the Designated Agency Ethics Official at the following address: National Transportation Safety Board, 490 L'Enfant Plaza, SW., Washington, DC 20594. Individuals must comply with NTSB regulations regarding the Privacy Act, at 5 CFR part 802, and must furnish the following information for their records to be located and identified:

1. Full name(s);

2. Dates of employment; and

3. Signature.

RECORD ACCESS PROCEDURES:

Same as “Notification Procedure.”

CONTESTING RECORD PROCEDURES:

Same as “Notification Procedure.”

RECORD SOURCE CATEGORIES:

Current and former NTSB employees, or designated persons on behalf of such employees, such as trustees, attorneys, accountants, bankers, or relatives; Federal officials who review the records to make conflict-of-interest determinations; persons alleging conflicts of interest or violations of other ethics laws, and persons contacted during any investigation of the allegations.

EXEMPTIONS CLAIMED FOR THE SYSTEM:

None.

NTSB-6

SYSTEM NAME:

Employee Payroll, Leave, and Attendance Records.

SYSTEM LOCATION:

National Transportation Safety Board, Human Resources Division, 490 L'Enfant Plaza, SW., Washington, DC 20594. The National Business Center, which is a division of the Department of Interior, stores some information electronically off-site on behalf of the NTSB, at: National Business Center, DOI, Payroll Operations Division, Mail Stop D-2600, 7301 West Mansfield Avenue, Lakewood, Colorado 80235-2230. In addition, the NTSB stores payroll records pertaining to individuals who have retired from the NTSB at the National Archives and Records Administration, National Personnel Records Center (Civilian Personnel Records Center), 111 Winnebago Street, St. Louis, Missouri 63118.

CATEGORIES OF INDIVIDUALS COVERED BY THE SYSTEM:

All current and former employees of the NTSB.

CATEGORIES OF RECORDS IN THE SYSTEM:

The agency's system consists of four files. Official personnel files held by the NTSB are governed by the U.S. Office of Personnel Management (OPM) regulations, at 5 CFR parts 293 and 297.

1. Official personnel file: This file consists of the forms and documents that record employees' Standard Form 50s, copies of benefits election forms, and applications used for qualification determinations. This is a paper file.

2. Security File: This file is described at NTSB-3, above. Duplicates of the security records described in NTSB-3 may also exist in this system, designated as NTSB-6.

3. Payroll file: This file consists of documents related to employees' pay and related payroll deductions that are not filed in the official personnel file. These files may contain copies of income tax forms, savings bond elections, net deposits and allotments, union dues elections, benefits elections, and records regarding garnishments. This is a paper file.

4. Time and attendance reports: This system consists of credit hour records, biweekly summaries of hours worked and leave taken, flextime records, leave applications, authorized premium pay, danger pay requests, and corrections. This information is maintained in an electronic system, and some records may exist on microfiche.

AUTHORITY FOR MAINTENANCE OF THE SYSTEM:

5 CFR Parts 293 and 297; Executive Order 12107.

PURPOSE(S):

The NTSB uses these records to establish and maintain employee qualifications, benefits and pay.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure to the Treasury Department for payroll purposes or for the issuance of savings bonds;

2. Disclosure to the Office of Personnel Management for retirement, health and life insurance purposes, and to carry out the Government-wide personnel management functions of the NTSB;

3. Disclosure to the National Finance Center for the Thrift Savings Plan and Temporary Continuation of Coverage;

4. Disclosure to the Social Security Administration for compliance with the Federal Insurance Compensation Act;

5. Disclosure to the Internal Revenue Service for taxable earnings and withholding purposes, or for audit and inspection and investigation purposes;

6. Disclosure to the Combined Federal Campaign for charitable contribution purposes;

7. Disclosure to the American Federation of Government Employees for union dues;

8. Disclosure to state and local government tax entities for income tax purposes;

9. Disclosure to holders of judgment liens, for the purposes of garnishments; and

10. Disclosure to arbitrators pursuant to a negotiated labor agreement or to Equal Employment Opportunity investigators who hear or investigate employee grievances or complaints of discrimination.

DISCLOSURE TO CONSUMER REPORTING AGENCIES:

None.

POLICIES AND PRACTICES FOR STORING, RETRIEVING, ACCESSING, RETAINING, AND DISPOSING OF RECORDS IN THE SYSTEM:

STORAGE:

Official personnel files, security files, and payroll files and are kept in file folders, which the NTSB maintains within metal file cabinets in a locked office. Time and attendance reports are maintained in an electronic system, as described above.

RETRIEVABILITY:

Official personnel files, payroll files, and time and attendance reports are indexed by name.

SAFEGUARDS:

Records are maintained in locked file cabinets that are restricted through electronic keycards to enter the facility where records are located. Computerized records are maintained a in secure, password protected computer system. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB retains and disposes of records within this system as follows:

1. The NTSB retains each employee's official personnel file until the end of the first thirty days following the date of the individual's separation from the NTSB if the individual is not thereafter employed by a Federal agency, pursuant to General Records Schedule 1, item 1. After expiration of the thirty-day period, the NTSB sends records to the National Archives and Records Administration, National Personnel Records Center, 111 Winnebago Street, St. Louis, Missouri. However, if following the separation from the NTSB, the individual is employed by another Federal agency, the NTSB maintains the records until that Federal agency requests the records from the NTSB;

2. Security records are kept for three years following an employee's separation, as described at NTSB-3, above;

3. The NTSB retains payroll records for three calendar years following the year in which the employee separates; and

4. The NTSB retains time and attendance reports for six years after the year of the employee's separation.

SYSTEM MANAGER AND ADDRESS:

Chief, Human Resources Division, National Transportation Safety Board, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date of birth;

3. Social Security number;

4. Dates of employment; and

5. Signature.

RECORD ACCESS PROCEDURE:

Same as “Notification Procedure.”

CONTESTING RECORD PROCEDURE:

Same as “Notification Procedure.”

RECORD SOURCE CATEGORIES:

Individuals about whom the records concern, individuals' supervisors, and NTSB employees acting in their official capacities.

EXEMPTIONS CLAIMED FOR THE SYSTEM:

None.

NTSB-7

SYSTEM NAME:

Equal Employment Opportunity (EEO) Discrimination Complaint Records.

SYSTEM LOCATION:

National Transportation Safety Board, Office of Equal Employment Opportunity, 490 L'Enfant Plaza, SW., Washington, DC 20594.

CATEGORIES OF INDIVIDUALS COVERED BY THE SYSTEM:

Individuals, classes of individuals, or organizations which have consulted an EEO Counselor regarding discrimination on the basis of race, color, religion, sex, national origin, physical disability or age because of a determination or decision made by a Safety Board official or which have filed a formal allegation of discrimination.

CATEGORIES OF RECORDS IN THE SYSTEM:

This system of records contains information or documents concerning pre-complaint processing and formal allegations of discrimination. The records consist of counselors' reports, the initial allegations, letters or notices to the individual or organization, materials placed into the record to support or refute the decision or determination, statements of witnesses, investigative reports, instructions about action to be taken to comply with decisions, and related correspondence, opinions, recommendations, and final administrative actions.

AUTHORITY FOR MAINTENANCE OF THE SYSTEM:

Executive Order No. 11,478; 42 U.S.C. 2000e; 29 U.S.C. 633a; 29 CFR part 1614.

PURPOSE(S):

The NTSB uses these records to initiate, investigate, and resolve discrimination complaints within the NTSB. The NTSB may also use these records as a data source for management information for production of summary descriptive statistics and analytical studies in support of the function for which the NTSB collects and maintains the records, or for related personnel management functions or manpower studies. In addition, the NTSB may use these records to locate specific individuals for personnel research or other personnel management functions.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure to the Office of Personnel Management, Merit Systems Protection Board (including its Office of the Special Counsel), Equal Employment Opportunity Commission, the Federal Labor Relations Authority (including the General Counsel of the Authority and the Federal Service Impasses Panel), the Federal Mediation and Conciliation Service, and to an arbitrator, in carrying out their functions;

2. Disclosure to other Federal or foreign agencies that need the information for an audit or investigation of a civil, criminal, or regulatory violation or potential violation;

3. A record from this system of records may be disclosed to a Federal, state or local agency maintaining civil, criminal or other relevant enforcement records or other pertinent records, such as current licenses, if necessary to obtain a record relevant to an agency decision concerning the hiring or retention of an employee, the issuance of a security clearance, the letting of a contract or the issuance of a license, grant or other benefit;

4. Disclosure to a Federal agency, in response to its request, in connection with hiring or retaining an employee, issuing a security clearance, conducting a security or suitability investigation of an individual, or classifying jobs, to the extent that the information is relevant and necessary to the requesting agency's decisions on the matter;

5. Disclosure in response to a subpoena to the NTSB where Federal agencies having the power to subpoena other Federal agencies' records, such as the Internal Revenue Service or the Civil Rights Commission, have issued the subpoena;

6. Where a contract between an NTSB office and a labor organization recognized under Executive Order No. 11,491 or 5 U.S.C. Chapter 71 provides that the agency will disclose personal records relevant to the organization's mission, the NTSB may disclose records in this system of records to such organization;

7. Disclosure to a private entity with which the NTSB maintains a contractual relationship for the purposes of investigating discrimination claims or collating, analyzing, aggregating or otherwise refining records in this system, where the private entity is subject to a non-disclosure agreement and understands that it must honor Privacy Act safeguards with respect to such records;

8. In the event of litigation where the defendant is (a) the NTSB, any component of the NTSB, or any employee of the NTSB in his or her official capacity; (b) the United States, where the NTSB determines that the claim, if successful, is likely to directly affect the operations of the NTSB or any of its components; or (c) any NTSB employee in his or her individual capacity where the Department of Justice has agreed to represent such employee, the NTSB may disclose such records as it deems desirable or necessary to the Department of Justice to enable the NTSB to present an effective defense, provided such disclosure is compatible with the purpose for which the records were collected;

9. Records may be disclosed to student volunteers, individuals working under a personal services contract, and other individuals performing functions for the NTSB but technically not having the status of NTSB employees, if they need access to the records to perform their assigned agency functions.

DISCLOSURE TO CONSUMER REPORTING AGENCIES:

None.

POLICIES AND PRACTICES FOR STORING, RETRIEVING, ACCESSING, RETAINING, AND DISPOSING OF RECORDS IN THE SYSTEM:

STORAGE:

These records are maintained in file folders, binders, and index cards.

RETRIEVABILITY:

These records are indexed by the names of the individuals or organizations concerning which the NTSB maintains them.

SAFEGUARDS:

Records are maintained in locked file cabinets that are restricted through electronic keycards to enter the facility where records are located. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The records are retained for four years after final disposition of the EEO complaint. After the four-year period expires, the NTSB destroys the records, pursuant to General Records Schedule 1, item 25.

SYSTEM MANAGER AND ADDRESS:

Director, Office of Equal Employment Opportunity, National Transportation Safety Board, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date of birth;

3. Social Security number;

4. Dates of employment; and

5. Signature.

RECORD ACCESS PROCEDURES:

Same as “Notification Procedure.”

CONTESTING RECORD PROCEDURES:

Same as “Notification Procedure.”

RECORD SOURCE CATEGORIES:

The NTSB obtains the records in this system from: the individual to whom the record pertains; the NTSB or other officials; NTSB employees or other witnesses; and the EEO director or other such persons or organizations who create or submit official documents relating to the counseling or formal allegation.

EXEMPTIONS CLAIMED FOR THE SYSTEM:

To the extent that any records in this system consist of attorney work product or attorney-client communications, 5 U.S.C. 552a(d)(5) may apply to preclude access to any information compiled in reasonable anticipation of a civil action or proceeding.

NTSB-8

SYSTEM NAME:

FOIA and Privacy Act Request Records.

SYSTEM LOCATION:

National Transportation Safety Board, Office of Chief Information Officer, Records Management Division, 490 L'Enfant Plaza, SW., Washington, DC 20594.

CATEGORIES OF INDIVIDUALS COVERED BY THE SYSTEM:

Persons who make requests for NTSB records under the Freedom of Information Act (FOIA) or the Privacy Act (PA), and administrative appeals based on responses to those requests.

CATEGORIES OF RECORDS IN THE SYSTEM:

Copies of written requests from individuals or organizations made under the provisions of the FOIA or PA, NTSB response letters, copies of requested records, and records concerning an administrative appeal of the response, where the requester has submitted such an appeal.

AUTHORITY FOR MAINTENANCE OF THE SYSTEM:

The Freedom of Information Act, as amended, (codified at 5 U.S.C. 552); the Privacy Act of 1974, as amended (codified at 5 U.S.C. 552a).

PURPOSE(S):

The NTSB maintains these records to process requests made under the provisions of the Freedom of Information Act and Privacy Act of 1974.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure to a court, or other deciding agency or official, when a requester has filed an appeal or court suit concerning a request; and

2. Disclosure to another Federal agency when consultation or referral is required to process a request.

DISCLOSURE TO CONSUMER REPORTING AGENCIES:

None.

POLICIES AND PRACTICES FOR STORING, RETRIEVING, ACCESSING, RETAINING, AND DISPOSING OF RECORDS IN THE SYSTEM:

STORAGE:

Records of correspondence regarding a requester's request or appeal are stored manually in file folders and electronically, in a database. Records within the scope of a requester's request may be stored on audiotapes and/or videotapes, on computer disks, and electronically, in databases.

RETRIEVABILITY:

The NTSB retrieves records in this system by unique assigned number for each request, by the requester's name, or by the investigation number, where the requester seeks information from a particular accident investigation.

SAFEGUARDS:

Paper records are maintained in locked file cabinets or shelving that is restricted through electronic keycards to enter the facility where records are located. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB retains the records in this system until disposition or destruction is authorized by title 44 of the United States Code or the National Archives and Records Administration's General Records Schedule 14. The NTSB also disposes of records within this system in accordance with General Records Schedule 14.

SYSTEM MANAGER AND ADDRESS:

Freedom of Information Act Officer, National Transportation Safety Board, Attention: FOIA and Privacy Act Requester Service Center, CIO-40, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Subject of FOIA request or Privacy Act record;

3. Date of FOIA or Privacy Act request; and

4. Signature.

RECORD ACCESS PROCEDURE:

Same as “Notification Procedure.”

CONTESTING RECORD PROCEDURE:

Same as “Notification Procedure.”

RECORD SOURCE CATEGORIES:

Individuals who submit requests and administrative appeals pursuant to FOIA and PA, agency records obtained in the process of responding to such requests and appeals and NTSB personnel who handle such requests and appeals. These requests are accepted by fax, public web, postal mail, and e-mail.

EXEMPTIONS CLAIMED FOR THE SYSTEM:

None.

NTSB-10

SYSTEM NAME:

Employee Records of Disciplinary Action, Adverse Action, and Grievance and Appeal Files.

SYSTEM LOCATION:

National Transportation Safety Board, Human Resources Division, 490 L'Enfant Plaza, SW., Washington, DC 20594.

CATEGORIES OF INDIVIDUALS COVERED BY THE SYSTEM:

Current and former National Transportation Safety Board Federal employees against whom such action has been proposed or taken in accordance with 5 CFR parts 315 (subparts H and I), 432, 752, or 754.

CATEGORIES OF RECORDS IN THE SYSTEM:

Current and former National Transportation Safety Board Federal employees against whom such action has been proposed or taken in accordance with 5 CFR parts 315 (subparts H and I), 432, 752, or 754, or who have filed grievances pursuant to 5 CFR 771.

CATEGORIES OF RECORDS IN THE SYSTEM:

This system contains records and documents concerning: (1) The processing of disciplinary and adverse actions, performance-based reduction in grade and removal actions, and grievances and appeals of such actions; (2) the termination of employees serving initial appointment probation and return to their former grade of employees serving supervisory or managerial probation; and (3) grievances raised by agency employees, except EEO complaints and grievances filed under negotiated grievance procedures in accordance with 5 U.S.C. 7121. The records include, as appropriate: Copies of the notice of proposed action; materials upon which the NTSB relied to support the reasons in the notice; replies by the employee; statements of witnesses and affidavits; hearing notices; reports of investigations; agency decisions; and records of resolutions or settlement agreements, which may include reports of interviews and hearing examiners; findings and recommendations, copies of original decisions, related correspondence and exhibits, and records concerning reconsideration requests.

AUTHORITY FOR MAINTENANCE OF THE SYSTEM:

5 U.S.C. 1302, 3301, 3321, 4303, 4308, 5115, 5338, 7151, 7301, 7504, 7514, 7543, 7701, and 8347; 5 CFR part 771.

PURPOSE(S):

The NTSB maintains this system of records regarding the proposal, processing, and documentation of disciplinary and adverse employment actions in order to comply with 5 CFR parts 315 (subparts H and I), 432, 752, or 754; in addition, the NTSB maintains grievance information in accordance with 5 CFR part 771.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure to labor organization officials to provide information defined under 5 U.S.C. chapter 71, when the information is relevant and necessary to their duties of exclusive representation concerning personnel policies, practices, and matters affecting working conditions;

2. Disclosure to other Federal or foreign agencies that need the information for an audit or investigation of a civil, criminal, or regulatory violation or potential violation;

3. Disclosure to any source from which the NTSB requests additional information for processing any of the covered actions or in regard to an appeal or administrative review procedure, to the extent necessary to identify the individual, inform the source of the purpose(s) of the request, and identify the type of information requested;

4. Disclosure to a Federal agency, in response to its request, in connection with hiring or retaining an employee, issuing a security clearance, conducting a security or suitability investigation of an individual, or classifying jobs, to the extent that the information is relevant and necessary to the requesting agency's decisions on the matter;

5. Disclosure to another Federal agency, to a court, or to a party in litigation before a court or in an administrative proceeding being conducted by a Federal agency, when the Government is a party to the judicial or administrative proceeding;

6. Disclosure to other agencies or contractors for other agencies, when disclosure is necessary to locate individuals for personnel research or survey response and in producing summary descriptive statistics and analytical studies in support of the function for which the other organization seeks to collect the record, or for related workforce studies; the NTSB notes that, while published statistics and studies do not contain individual identifiers, in some instances the selection of elements of data included in the study may be structured in such a way as to make the data individually identifiable by inference;

7. Disclosure to a party engaged in litigation of information that is relevant to subject matter concerning a pending judicial or administrative proceeding, when such disclosure is subject to discovery or order from a court with competent jurisdiction;

8. Disclosure to the Merit System Protection Board in connection with appeals, special studies of the civil service and other merit systems, review of agency rules and regulations, investigations of alleged or possible prohibited personnel practices, and such other functions, as promulgated in 5 U.S.C. 1205 and 1206, and as specified in 5 U.S.C. 7503(c) and 5 U.S.C. 7513(e), or as may be authorized by any other applicable statute.

DISCLOSURE TO CONSUMER REPORTING AGENCIES:

None.

POLICIES AND PRACTICES FOR STORING, RETRIEVING, ACCESSING, RETAINING, AND DISPOSING OF RECORDS IN THE SYSTEM:

STORAGE:

The NTSB maintains these records on paper in file folders within a lectriever in a locked file room.

RETRIEVABILITY:

The NTSB retrieves records by name.

SAFEGUARDS:

The NTSB maintains paper records within this system in a locked file room that is restricted through electronic keycards to enter the room where records are located. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB destroys these records five years after the closing of the case.

SYSTEM MANAGER AND ADDRESS:

Chief, Human Resources Division, National Transportation Safety Board, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date of birth;

3. Social Security number;

4. Dates of employment; and

5. Signature.

RECORD ACCESS PROCEDURE:

Same as “Notification Procedure.”

CONTESTING RECORD PROCEDURE:

Same as “Notification Procedure.”

RECORD SOURCE CATEGORIES:

The NTSB obtains the records in this system from: NTSB employees and supervisors, NTSB Office of Administration; representatives of NTSB employees.

EXEMPTIONS CLAIMED FOR THE SYSTEM:

None.

NTSB-11

SYSTEM NAME:

Parking Permit Records.

SYSTEM LOCATION:

National Transportation Safety Board, Office of Administration, 490 L'Enfant Plaza, SW., Washington, DC 20594.

CATEGORIES OF INDIVIDUALS COVERED BY THE SYSTEM:

NTSB employees who apply for parking permits at the NTSB headquarters facility.

CATEGORIES OF RECORDS IN THE SYSTEM:

This system contains parking applications, which include but are not limited to, the applicant's name, address, telephone number, division, grade level, vehicle, carpool, handicap information, and justifications for the priority of parking permits. The NTSB collects parking applications from each applicant on a regular annual basis.

AUTHORITY FOR MAINTENANCE OF THE SYSTEM:

40 U.S.C. 121(c); 41 CFR 102-74.305; Executive Order No. 12,191, 45 FR 7,997 (Feb. 1, 1980).

PURPOSE(S):

The NTSB maintains this system of records in order to provide parking for qualified NTSB employees located at the NTSB headquarters facility in Washington, DC.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure to labor organization officials to provide information defined under 5 U.S.C. chapter 71, when the information is relevant and necessary to their duties of exclusive representation concerning personnel policies, practices, and matters affecting work conditions;

2. Disclosure to other Federal or foreign agencies that need the information for an audit or investigation of a civil, criminal, or regulatory violation or potential violation.

DISCLOSURE TO CONSUMER REPORTING AGENCIES:

None.

POLICIES AND PRACTICES FOR STORING, RETRIEVING, ACCESSING, RETAINING, AND DISPOSING OF RECORDS IN THE SYSTEM:

STORAGE:

The NTSB maintains these records on paper in file folders.

RETRIEVABILITY:

The NTSB retrieves these records by searching either by the employee's name or by the individual parking permit number.

SAFEGUARDS:

The NTSB maintains paper records within this system in locked file cabinets that are restricted through electronic keycards to enter the facility where records are located. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

As stated above, the NTSB collects parking applications on a regular annual basis. The NTSB retains applications for a period of 3 years, after which the NTSB destroys the applications, pursuant to General Records Schedule 9.

SYSTEM MANAGER AND ADDRESS:

Chief, Administrative Services Division, National Transportation Safety Board, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Dates of employment; and

3. Signature.

RECORD ACCESS PROCEDURE:

Same as “Notification Procedure.”

CONTESTING RECORD PROCEDURE:

Same as “Notification Procedure.”

RECORD SOURCE CATEGORIES:

NTSB employees and supervisors, NTSB Administrative Services Division.

EXEMPTIONS CLAIMED FOR THE SYSTEM:

None.

NTSB-12

SYSTEM NAME:

Employee Travel Card Records.

SYSTEM LOCATION:

National Transportation Safety Board, Office of Chief Financial Officer, 490 L'Enfant Plaza, SW., Washington, DC 20594.

CATEGORIES OF INDIVIDUALS COVERED BY THE SYSTEM:

Current and former NTSB employees.

CATEGORIES OF RECORDS IN THE SYSTEM:

This system contains credit card applications, a list of terms and conditions for use of credit cards, credit card training documentation, monthly reports regarding accounts, credit data, and related documentation, all of which may include an individual's name, Social Security number, and personal contact information.

AUTHORITY FOR MAINTENANCE OF THE SYSTEM:

5 U.S.C. 5701; 31 U.S.C. 716, 1104, 3511-3512, 3701, 3711, 3717-3718, 3726; 41 CFR parts 301-304; Exec. Order No. 9,397, 8 FR 16,095 (Nov. 30, 1943); Consolidated Appropriations Act of 2005, Public Law No. 108-447, § 639, 118 Stat. 2809 (2004).

PURPOSE(S):

The NTSB collects information for this system in order to facilitate the process of obtaining travel cards for NTSB employees. Such travel cards are necessary for the provision of funds for employees' official travel.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure to the General Services Administration and the Office of Management and Budget for periodic reporting required by statute, regulation, and/or Executive Order;

2. Disclosure to the bank that issued the credit card, for necessary record-keeping purposes;

3. Disclosure to the National Business Center of the Department of Interior, for facilitating collection of travel card delinquencies by employee salary offset; and

4. Disclosure to a consumer reporting agency, for the purpose of obtaining the credit reports necessary to provide the credit cards, and not for the purposes listed at 5 U.S.C. 552(b)(12) (referring to Debt Collection Act).

DISCLOSURE TO CONSUMER REPORTING AGENCIES:

None, except as described at 5 U.S.C. 552a(b)(12).

POLICIES AND PRACTICES FOR STORING, RETRIEVING, ACCESSING, RETAINING, AND DISPOSING OF RECORDS IN THE SYSTEM:

STORAGE:

The NTSB maintains the information in this system on paper files, in file folders, and in an electronic database.

RETRIEVABILITY:

Records in this system are indexed by name.

SAFEGUARDS:

The NTSB maintains paper records within this system in locked file cabinets that are restricted through electronic keycards to enter the facility where records are located. Computerized records are maintained in secure, password protected computer system. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: the Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB retains electronic records in this system until the NTSB no longer needs the records because the employee separates from Federal service and no pending claims on the employee's credit card exists, or until the retention period for the records has expired, pursuant to General Records Schedule 9.

SYSTEM MANAGER AND ADDRESS:

Chief, Accounting Division, Office of Chief Financial Officer, National Transportation Safety Board, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date of birth;

3. Social Security number;

4. Dates of employment; and

5. Signature.

RECORD ACCESS PROCEDURE:

Same as “Notification Procedure.”

CONTESTING RECORD PROCEDURE:

Same as “Notification Procedure.”

RECORD SOURCE CATEGORIES:

The NTSB obtains information in this system from NTSB employees, the bank issuing the credit card, the consumer reporting agency, and outside vendors who have provided travel services or accommodations to an NTSB employee for the employee's official travel.

EXEMPTIONS CLAIMED FOR THE SYSTEM:

None.

NTSB-13

SYSTEM NAME:

Airman or Mariner Certificate Enforcement Actions.

SYSTEM LOCATION:

Primary system: Office of Administrative Law Judges, NTSB, 490 L'Enfant Plaza, SW., Washington, DC 20594. Upon assignment of a case to an NTSB Administrative Law Judge (ALJ) located in Texas, the case file is maintained at 624 Six Flags Drive, Suite 150, Arlington, Texas 76011; upon assignment of a case to an NTSB ALJ in Colorado, the case file is maintained at 4760 Oakland Street, Suite 500, Denver, Colorado 80239. When a party appeals the decision of the NTSB ALJ, the Office of Administrative Law Judges transfers the case's docket file to the NTSB Office of General Counsel, 490 L'Enfant Plaza, SW., Washington, DC 20594, until the Safety Board has served a final ruling on the appeal, at which time the Office of General Counsel transfers the docket file back to the Office of Administrative Law Judges.

CATEGORIES OF INDIVIDUALS COVERED BY THE SYSTEM:

Individuals who hold airman certificates who have been subject to Federal Aviation Administration (FAA) enforcement actions, or to whom the FAA has denied certification; and mariners who hold maritime licenses, certificates, documents, or registers who have been subject to U.S. Coast Guard enforcement actions or certificate denials.

CATEGORIES OF RECORDS IN THE SYSTEM:

The system includes, but is not limited to, the petition or appeal filed by an airman, pleadings from both parties in the case; motions and responses filed by the parties; relevant documents related to these actions (i.e., Orders of Revocation, Orders of Suspension, Orders of Assessment, Denials of applications for issuance of airman certificates); hearing notices, transcripts of hearings, exhibits introduced during hearings; and Administrative Law Judges' decisions. For cases that a party appeals to the full five-member Board, records will include the following additional categories: Notice of Appeal for review of the Judge's decision, and briefs in support of that appeal; the Board's Opinion and Order resulting from the review; and other correspondence that is initiated by the Board, or parties pertaining to the case. Where a case arises out of a U.S. Coast Guard action, records will include: the U.S. Coast Guard order; the Notice of Appeal of the Commandant's decision; parties' appeal briefs; the decision of the Administrative Law Judge, and the Commandant's decision on appeal; in addition, if a hearing occurred, records will include the transcript of testimony and exhibits from the hearing.

AUTHORITY FOR MAINTENANCE OF THE SYSTEM:

44 U.S.C. 216B, 239-a-b; 49 U.S.C. 1133, 44106, 44703, 44709, 44710, and 46301.

PURPOSE(S):

The NTSB maintains this system in order to fulfill Congress's statutory directive of deciding airman and mariner appeals, in accordance with 49 U.S.C. 1133; the NTSB manages the case load and tracks all documents related to cases in this system of records.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure in response to discovery ordered by a court, in accordance with 49 U.S.C. 1153; and

2. Publicly available records within the system, which the Privacy Act does not preclude from disclosure (e.g., final decisions issued by ALJs and the Board), are available on the NTSB Web site, http://www.ntsb.gov.

DISCLOSURE TO CONSUMER REPORTING AGENCIES:

None.

POLICIES AND PRACTICES FOR STORING, RETRIEVING, ACCESSING, RETAINING, AND DISPOSING OF RECORDS IN THE SYSTEM:

STORAGE:

Records are primarily maintained on paper in docket folders. In addition, the Office of Administrative Law Judges maintains certain information regarding each case in a searchable electronic database.

RETRIEVABILITY:

The electronic database is indexed by names of the certificate holder who is the subject of the action and by docket numbers, which are assigned when individual cases are received and docketed. Paper docket files are indexed by the airman's or mariner's surname.

SAFEGUARDS:

The NTSB maintains paper records within this system in locked file cabinets that are restricted through electronic keycards to enter the facility where records are located. Computerized records are maintained in secure, password protected computer system. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB maintains paper docket files for one year following the disposition of the case. After the one-year period has expired, the NTSB sends files to the Federal Records Center, National Archives and Records Administration, which destroys the files after 15 years in cases for which a hearing occurred, or after 6 years in cases in which no hearing occurred.

SYSTEM MANAGER AND ADDRESS:

Manager, ALJ Operations, National Transportation Safety Board, Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Certificate Number; and

3. Signature.

RECORD ACCESS PROCEDURE:

Same as “Notification Procedure.”

CONTESTING RECORD PROCEDURE:

Same as “Notification Procedure.”

RECORD SOURCE CATEGORIES:

The NTSB primarily obtains information in the records from the individual to whom a record pertains, authorized representatives for these individuals, from information supplied by the certificate holder, and attorneys and other representatives from the FAA and the U.S. Coast Guard.

EXEMPTIONS CLAIMED FOR THE SYSTEM:

None.

NTSB-14

SYSTEM NAME:

Information Request Database.

SYSTEM LOCATION:

National Transportation Safety Board, Office of Chief Information Officer, Records Management Division, 490 L'Enfant Plaza, SW., Washington, DC 20594

CATEGORIES OF INDIVIDUALS COVERED BY THE SYSTEM:

Individuals seeking publicly available information from the NTSB.

CATEGORIES OF RECORDS IN THE SYSTEM:

This system contains the individual's name, address, telephone number, email address, and a description of the requested records. The list may also include the requester's title, occupation, and institutional affiliation.

AUTHORITY FOR MAINTENANCE OF THE SYSTEM:

5 U.S.C. 552(a)(2); 49 U.S.C. 1131(e)

PURPOSE(S):

The NTSB maintains this system in order to provide individuals and organizations, at their request, with publicly available information that the NTSB produces.

ROUTINE USES OF RECORDS MAINTAINED IN THE SYSTEM, INCLUDING CATEGORIES OF USES AND THE PURPOSES OF SUCH USES:

The NTSB may disclose information from this system of records in accordance with subsection (b) of the Privacy Act, and as described in Appendix A, below.

DISCLOSURE TO CONSUMER REPORTING AGENCIES:

None.

POLICIES AND PRACTICES FOR STORING, RETRIEVING, ACCESSING, RETAINING, AND DISPOSING OF RECORDS IN THE SYSTEM:

STORAGE:

Records are maintained on paper and electronically in databases.

RETRIEVABILITY:

Records are indexed by individual name, company name, accident date, accident location, accident number and mailing list title.

SAFEGUARDS:

The NTSB maintains paper records within this system in locked file cabinets that are restricted through electronic keycards to enter the facility where records are located. Computerized records are maintained in a secure, password protected computer system. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB retains these records until the request has been fulfilled and the individual requests removal from the system.

SYSTEM MANAGER AND ADDRESS:

Records Management Officer, National Transportation Safety Board, Office of the Chief Information Officer, Records Management Division, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date of correspondence; and

3. Signature.

RECORD ACCESS PROCEDURE:

Same as “Notification Procedure.”

CONTESTING RECORD PROCEDURE:

Same as “Notification Procedure.”

RECORD SOURCE CATEGORIES:

Individuals who provide their name and mailing address directly to the NTSB.

EXEMPTIONS CLAIMED FOR THE SYSTEM:

None.

NTSB-15

SYSTEM NAME:

NTSB Staff Database.

SYSTEM LOCATION:

National Transportation Safety Board, Office of Chief Information Officer, 490 L'Enfant Plaza, SW., Washington, DC 20594.

CATEGORIES OF INDIVIDUALS COVERED BY THE SYSTEM:

All individuals who have a domain account on the agency's network. These individuals include: former and current NTSB employees, consultants, contractors, interns, and employees from other Federal agencies who are temporarily assigned to work at the NTSB.

CATEGORIES OF RECORDS IN THE SYSTEM:

Records within this system include the individual's name; photograph; personal or agency-issued cell phone number(s); and a history of the individual's previous employment positions and titles, including date ranges, contact information of the previous employer, and the individual's managerial status in such positions

AUTHORITY FOR MAINTENANCE OF THE SYSTEM:

Federal Information Security Management Act, enacted as Title III of E-Government Act of 2002, Public Law No. 107-347, 116 Stat. 2899 (codified at 44 U.S.C. 3541 et seq.)

PURPOSE(S):

The NTSB uses the data in this system to control access to various NTSB applications that require a listing of employees by office and position. The NTSB also generates a listing of employees' names and offices for an internal office telephone directory from this list.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine use:

• Disclosure to other Federal agencies that need the information for an audit or investigation.

DISCLOSURE TO CONSUMER REPORTING AGENCIES:

None.

POLICIES AND PRACTICES FOR STORING, RETRIEVING, ACCESSING, RETAINING, AND DISPOSING OF RECORDS IN THE SYSTEM:

STORAGE:

The NTSB stores all records in this system electronically in a database.

RETRIEVABILITY:

Records are indexed by name and office identifier, and can be retrieved using the web-based graphical user interface.

SAFEGUARDS:

The NTSB maintains these computerized records in a secure, password protected computer system. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB maintains this data for the duration of the use of the applications for which the data supports. The NTSB marks inactive or former employees as such, but maintains the data for historical relevance and auditing purposes.

SYSTEM MANAGER AND ADDRESS:

Chief, Computer Service Division, Office of the Chief Information Officer, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date of birth;

3. Social Security number;

4. Dates of employment or NTSB service; and

5. Signature.

RECORD ACCESS PROCEDURE:

Same as “Notification Procedure.”

CONTESTING RECORD PROCEDURE:

Same as “Notification Procedure.”

RECORD SOURCE CATEGORIES:

The NTSB obtains the information for records within this system from the individual, after the individual has provided the information to the NTSB Office of Administration, Human Resources Division.

EXEMPTIONS CLAIMED FOR THE SYSTEM:

None.

NTSB-16

SYSTEM NAME:

Correspondence Control Database.

SYSTEM LOCATION:

National Transportation Safety Board, Office of Management, Quality Assurance Division, Executive Secretariat, 490 L'Enfant Plaza, East, SW., Washington, DC 20594.

CATEGORIES OF INDIVIDUALS COVERED BY THE SYSTEM:

Members of the public, other government agencies, Members of Congress, the White House, and members of private industry seeking information from or about the NTSB.

CATEGORIES OF RECORDS IN THE SYSTEM:

This system contains the individual's name, address, and other contact information, as well as a description of the subject of the correspondence or request. The list may also include the requester's title, occupation, and institutional affiliation.

AUTHORITY FOR MAINTENANCE OF THE SYSTEM:

5 U.S.C. 552(a)(2); 49 U.S.C. 1131(e).

PURPOSE(S):

The NTSB maintains this system in order to verify receipt, generate a response, and establish a record of mail addressed to the head of the agency that requires the signature of the Chairman or an NTSB office director.

ROUTINE USES OF RECORDS MAINTAINED IN THE SYSTEM, INCLUDING CATEGORIES OF USES AND THE PURPOSES OF SUCH USES:

The NTSB may disclose information in accordance with subsection (b) of the Privacy Act, and as described in Appendix A, below.

DISCLOSURE TO CONSUMER REPORTING AGENCIES:

None.

POLICIES AND PRACTICES FOR STORING, RETRIEVING, ACCESSING, RETAINING, AND DISPOSING OF RECORDS IN THE SYSTEM:

STORAGE:

The NTSB office that drafts the response to the correspondence stores paper records in this system in file folders in metal file cabinets; the NTSB Office of Management stores some categories of information electronically in a database. The NTSB may transmit some records to other offices within the NTSB when a response to the correspondence requires input from another office.

RETRIEVABILITY:

Records are indexed by individual's name, organization, date of correspondence, and subject matter.

SAFEGUARDS:

The NTSB maintains paper records within this system in file cabinets that are restricted through electronic keycards to enter the facility where records are located. Computerized records are maintained in secure, password protected computer system. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: the Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB permanently maintains records in the electronic system. The NTSB maintains corresponding paper records within this system until the expiration of 3 years following the final response to the correspondence, after which the NTSB destroys the records by shredding them.

SYSTEM MANAGER AND ADDRESS:

Executive Secretariat, Office of Management, Quality Assurance Division, National Transportation Safety Board, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date and subject of correspondence; and

3. Signature.

RECORD ACCESS PROCEDURE:

Same as “Notification Procedure.”

CONTESTING RECORD PROCEDURE:

Same as “Notification Procedure.”

RECORD SOURCE CATEGORIES:

Individuals who provide their name and mailing address directly to the NTSB in their correspondence.

EXEMPTIONS CLAIMED FOR THE SYSTEM:

None.

NTSB-17

SYSTEM NAME:

Office of Transportation Disaster Assistance Family Member Database.

SYSTEM LOCATION:

National Transportation Safety Board, Office of Transportation Disaster Assistance, 490 L'Enfant Plaza, SW., Washington, DC 20594.

CATEGORIES OF INDIVIDUALS COVERED BY THE SYSTEM:

Family members and victims of transportation accidents that are or have been the subject of an NTSB investigation.

CATEGORIES OF RECORDS IN THE SYSTEM:

Name and contact information of victims of transportation accidents, as well as the names and contact information for victims' family members and legal next-of-kin.

AUTHORITY FOR MAINTENANCE OF THE SYSTEM:

49 U.S.C. 1136.

PURPOSE(S):

The NTSB uses this system to maintain mailing and telephone contact information in order to provide services and information to victims of transportation accidents, and/or victims' family members and next-of-kin.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine use:

1. Disclosure to other government agencies, when necessary to determine whether the victim and/or family member has received information or services in accordance with 49 U.S.C. § 1136(c); and

2. Disclosure to state police or other agencies, when necessary for safety of Federal employees.

DISCLOSURE TO CONSUMER REPORTING AGENCIES:

None.

POLICIES AND PRACTICES FOR STORING, RETRIEVING, ACCESSING, RETAINING, AND DISPOSING OF RECORDS IN THE SYSTEM:

STORAGE:

The NTSB stores information electronically in a database.

RETRIEVABILITY:

The database containing information in this system is searchable by name, NTSB investigation number, and date and location of transportation accident.

SAFEGUARDS:

The computerized records that compose this system of records are maintained in secure, password protected computer system. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB maintains the records in this system indefinitely, unless an individual requests removal from the system.

SYSTEM MANAGER AND ADDRESS:

Director, Office of Transportation Disaster Assistance, National Transportation Safety Board, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date, location, or NTSB investigation identifier pertaining to the accident investigation from which the NTSB created the record; and

3. Signature.

RECORD ACCESS PROCEDURE:

Same as “Notification Procedure.”

CONTESTING RECORD PROCEDURE:

Same as “Notification Procedure.”

RECORD SOURCE CATEGORIES:

Individuals directly submit their own contact information for inclusion in the database; the NTSB may also obtain information from other Federal agencies who provide assistance to victims and victims' family members, or from transportation operators who may have passenger lists.

EXEMPTIONS CLAIMED FOR THE SYSTEM:

None.

NTSB-18

SYSTEM NAME:

Correspondence from Members of Congress.

SYSTEM LOCATION:

National Transportation Safety Board, Office of Government and Industry Affairs, 490 L'Enfant Plaza, SW., Washington, DC 20594

CATEGORIES OF INDIVIDUALS COVERED BY THE SYSTEM:

Senators, Members of Congress, and congressional staff.

CATEGORIES OF RECORDS IN THE SYSTEM:

Requests and written correspondence from Members of Congress and congressional staff, Safety Board responses to Members of Congress, and records regarding the Safety Board's preparation of response to Members' inquiries and correspondence.

AUTHORITY FOR MAINTENANCE OF THE SYSTEM:

5 U.S.C. 552(a)(2); 49 U.S.C. 1101-1155.

PURPOSE(S):

The NTSB utilizes this system to track and provide timely responses to inquiries and correspondence from Members of Congress and congressional staff.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine use:

• Disclosure to other government agencies, when necessary to respond to inquiries or correspondence from Members of Congress.

DISCLOSURE TO CONSUMER REPORTING AGENCIES:

None.

POLICIES AND PRACTICES FOR STORING, RETRIEVING, ACCESSING, RETAINING, AND DISPOSING OF RECORDS IN THE SYSTEM:

STORAGE:

The NTSB maintains these records in paper folders within file cabinets and in an electronic database.

RETRIEVABILITY:

Records are indexed by the surname of the Senator or Member of Congress.

SAFEGUARDS:

The NTSB maintains paper records within this system in file cabinets that are restricted through electronic keycards to enter the facility where records are located. Computerized records are maintained in secure, password protected computer system. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB maintains these documents until the Member of Congress is no longer serving in Congress, or until the NTSB determines that it no longer needs the record after the NTSB has responded to the request or inquiry. The NTSB destroys records by shredding them.

SYSTEM MANAGER AND ADDRESS:

Director, Office of Government and Industry Affairs, National Transportation Safety Board, 490 L'Enfant Plaza, SW., Washington, DC 20594,

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Subject of original correspondence; and

3. Signature.

RECORD ACCESS PROCEDURES:

Same as “Notification Procedure.”

CONTESTING RECORD PROCEDURES:

Same as “Notification Procedure.”

RECORD SOURCE CATEGORIES:

Members of Congress, congressional staff, employees of other Federal agencies.

EXEMPTIONS CLAIMED FOR THE SYSTEM:

None.

NTSB-19

SYSTEM NAME:

Training Center Student Registration Database.

SYSTEM LOCATION:

NTSB Training Center, 45065 Riverside Parkway, Ashburn, Virginia 20147.

CATEGORIES OF INDIVIDUALS COVERED BY THE SYSTEM:

Students, members of the public, NTSB employees, and employees of state and Federal agencies who have registered to attend training course(s) at the NTSB Training Center

CATEGORIES OF RECORDS IN THE SYSTEM:

These records consist of course applications and the revenue collected for all training courses that are offered to the public and to NTSB employees. The applications include, but are not limited to, the registrant's name, address, telephone and fax number, e-mail address, country, and payment information.

AUTHORITY FOR MAINTENANCE OF THE SYSTEM:

49 U.S.C. 1115 and 1118(c)

PURPOSE(S):

The NTSB uses this system to register students, issue student transcripts and certificates of completion of training programs, and record associated tuition payment for training courses at the NTSB Training Center.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure to the Department of Interior, National Business Center, for processing credit card or check payments for tuition, tuition refunds, or for collection of delinquencies;

2. Disclosure to the Department of State or an embassy for passports or visas, or for responding to request for disclosing international students and associated countries, and tuition collected;

3. Disclosure of limited information to an employer for verification of training completed;

4. Disclosure of limited information to a college or university as students requesting student transcripts; and

5. Disclosure to Congress for annual reporting requirements.

DISCLOSURE TO CONSUMER REPORTING AGENCIES:

None.

POLICIES AND PRACTICES FOR STORING, RETRIEVING, ACCESSING, RETAINING, AND DISPOSING OF RECORDS IN THE SYSTEM:

STORAGE:

The NTSB stores the electronic database in a system on a SQL server. The NTSB maintains some paper folders, which the NTSB keeps in a locked cabinet at the NTSB Training Center.

RETRIEVABILITY:

Records are indexed by registrant's name or by student identification code assigned by the Office of the Assistant to the Associate Managing Director for the NTSB Training Center.

SAFEGUARDS:

The NTSB maintains paper records within this system in locked file cabinets that are restricted through electronic keycards to enter the facility where records are located.

Computerized records are maintained in a secure, password protected computer system. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: the Privacy Act of 1974; the Federal Information Security Management Act of 2002; the Computer Fraud and Abuse Act of 1986; the Health Insurance Portability and Accountability Act of 1996; the E-Government Act of 2002; and corresponding regulations implementing these statutes.

RETENTION AND DISPOSAL:

The Training Center maintains student records in the electronic system for 10 years and paper files for 7 years, in accordance with the budgeting and financial management policy.

SYSTEM MANAGER AND ADDRESS:

Assistant to Associate Managing Director for NTSB Training Center, 45065 Riverside Parkway, Ashburn, Virginia 20147.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Employer;

3. Description of course that the individual attended or applied to attend;

4. Student identification number; and

5. Signature.

RECORD ACCESS PROCEDURE:

Same as “Notification Procedure.”

CONTESTING RECORD PROCEDURE:

Same as “Notification Procedure.”

RECORD SOURCE CATEGORIES:

The NTSB obtains information for this system from course applications that persons seeking to register for a training course submit to the NTSB Training Center.

EXEMPTIONS CLAIMED FOR THE SYSTEM:

None.

NTSB-20

SYSTEM NAME:

Public Affairs Phone Log.

SYSTEM LOCATION:

Office of Public Affairs, National Transportation Safety Board, 490 L'Enfant Plaza, SW., Washington, DC 20594.

CATEGORIES OF INDIVIDUALS COVERED BY THE SYSTEM:

Journalists who contact the NTSB Public Affairs Office.

CATEGORIES OF RECORDS IN THE SYSTEM:

Name of caller, affiliation, phone number, e-mail address, subject of the call, and additional relevant comments.

AUTHORITY FOR MAINTENANCE OF THE SYSTEM:

49 U.S.C. 1101-1155; 49 CFR 800.2(b) and 831.13(a).

PURPOSE(S):

The NTSB maintains this system to keep a log of telephone activity for the Office of Public Affairs as it pertains to news media representatives.

ROUTINE USES OF RECORDS MAINTAINED IN THE SYSTEM, INCLUDING CATEGORIES OF USES AND THE PURPOSES OF SUCH USES:

The NTSB may disclose information in accordance with subsection (b) of the Privacy Act, and as described in Appendix A, below.

DISCLOSURE TO CONSUMER REPORTING AGENCIES:

None.

POLICIES AND PRACTICES FOR STORING, RETRIEVING, ACCESSING, RETAINING, AND DISPOSING OF RECORDS IN THE SYSTEM:

STORAGE:

The NTSB maintains records within this system in an electronic database.

RETRIEVABILITY:

The database containing these records is searchable by name, affiliation, subject matter, or NTSB public affairs officer who handled the telephone call.

SAFEGUARDS:

The NTSB maintains the computerized records in this system of records in a secure, password protected computer system. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB maintains the records in this system indefinitely.

SYSTEM MANAGER AND ADDRESS:

Director, Office of Public Affairs, National Transportation Safety Board, 490 L'Enfant Plaza, SW., Washington, DC 20594

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Subject of original correspondence; and

3. Signature.

RECORD ACCESS PROCEDURE:

Same as “Notification Procedure.”

CONTESTING RECORD PROCEDURE:

Same as “Notification Procedure.”

RECORD SOURCE CATEGORIES:

Journalists who contact the NTSB Office of Public Affairs via telephone.

EXEMPTIONS CLAIMED FOR THE SYSTEM:

None.

NTSB-21

SYSTEM NAME:

Respiratory Protection Program Records.

SYSTEM LOCATION:

National Transportation Safety Board, Office of Occupational Safety and Health, 490 L'Enfant Plaza East, SW., Washington, DC 20594.

CATEGORIES OF INDIVIDUALS COVERED BY THE SYSTEM:

Current employees who have received medical clearance and have been trained to don a half-face negative pressure respirator.

CATEGORIES OF RECORDS IN THE SYSTEM:

Employee name, date of birth, office location, job title, date of last medical clearance, date of last physical exam, medical clearance expiration date, suggested activity level while donning a respirator, date of training, date of fit test and type of respirator issued.

AUTHORITY FOR MAINTENANCE OF THE SYSTEM:

29 U.S.C. 653, 655, and 657; 29 CFR 1910.134(c)

PURPOSE(S):

The NTSB uses this system to document employee medical qualifications and training for respirator usage pursuant to OSHA regulations, 29 CFR 1910.134(c).

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure to other Federal agencies, such as the Department of Labor or the Office of Personnel Management, that need the information for an audit; and

2. Disclosure to other Federal agencies when necessary for the investigation of a potential civil, criminal, or regulatory violation.

DISCLOSURE TO CONSUMER REPORTING AGENCIES:

None.

POLICIES AND PRACTICES FOR STORING, RETRIEVING, ACCESSING, RETAINING, AND DISPOSING OF RECORDS IN THE SYSTEM:

STORAGE:

The NTSB maintains these records in an electronic database and in paper file folders within a locked file cabinet.

RETRIEVABILITY:

All records in this system are indexed by name.

SAFEGUARDS:

The NTSB maintains paper records within this system in a locked file cabinet that is restricted through electronic keycards to enter the facility where records are located. Computerized records are maintained in secure, password protected computer system. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB retains records within this system indefinitely, but will destroy the records when the NTSB determines it no longer needs the records.

SYSTEM MANAGER AND ADDRESS:

Manager, Occupational Safety and Health Program, National Transportation Safety Board, 490 L'Enfant Plaza East, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date of birth;

3. Social Security number;

4. Dates of employment or NTSB service; and

5. Signature.

RECORD ACCESS PROCEDURE:

Same as “Notification Procedure.”

CONTESTING RECORD PROCEDURE:

Same as “Notification Procedure.”

RECORD SOURCE CATEGORIES:

Individuals to whom the records apply, the individual's supervisor (if the individual was referred to the program by his or her supervisor), and the Manager of the Occupational Safety and Health Program.

EXEMPTIONS CLAIMED FOR THE SYSTEM:

None.

NTSB-22

SYSTEM NAME:

Occupational Safety and Health Training Program.

SYSTEM LOCATION:

National Transportation Safety Board, Office of Occupational Safety and Health, 490 L'Enfant Plaza, SW., Washington, DC 20594.

CATEGORIES OF INDIVIDUALS COVERED BY THE SYSTEM:

All current NTSB employees, interns, volunteers, contractors, and employees from other Federal agencies who may be on assignment at the NTSB. In addition, this system may include records concerning former NTSB employees, depending upon when the employee separated from the NTSB, as described below.

CATEGORIES OF RECORDS IN THE SYSTEM:

Employee name, Social Security number, office location, job title, and indication of whether employee has completed necessary training under the NTSB Occupational Safety and Health Program.

AUTHORITY FOR MAINTENANCE OF THE SYSTEM:

29 U.S.C. 668 and 673; 29 CFR 1960.59.

PURPOSE(S):

The NTSB maintains this system in order to document employee safety and health training, as required by 29 CFR 1960.59.

ROUTINE USES OF RECORDS MAINTAINED IN THE SYSTEM, INCLUDING CATEGORIES OF USES AND THE PURPOSES OF SUCH USES:

The NTSB may disclose information from this system of records in accordance with subsection (b) of the Privacy Act, and described in Appendix A, below.

DISCLOSURE TO CONSUMER REPORTING AGENCIES:

None.

POLICIES AND PRACTICES FOR STORING, RETRIEVING, ACCESSING, RETAINING, AND DISPOSING OF RECORDS IN THE SYSTEM:

STORAGE:

The NTSB maintains these records in an electronic database and in paper file folders within a locked file cabinet.

RETRIEVABILITY:

All records in this system are indexed by name, training course(s) assigned, and scores of quizzes administered during the training.

SAFEGUARDS:

The NTSB maintains paper records within this system in a locked file cabinet that is restricted through electronic keycards to enter the facility where records are located. Computerized records are maintained in secure, password protected computer system. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB retains electronic and paper records until the expiration of five years after the employee leaves the NTSB.

SYSTEM MANAGER AND ADDRESS:

Manager, Occupational Safety and Health Program, National Transportation Safety Board, 490 L'Enfant Plaza East, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date of birth;

3. Social Security Number;

4. Dates of employment or NTSB service; and

5. Signature.

RECORD ACCESS PROCEDURE:

Same as “Notification Procedure.”

CONTESTING RECORD PROCEDURE:

Same as “Notification Procedure.”

RECORD SOURCE CATEGORIES:

Individuals to whom the records apply, the individual's supervisor (if the individual was referred to the program by his or her supervisor), and the Manager of the Occupational Safety and Health Program.

EXEMPTIONS CLAIMED FOR THE SYSTEM:

None.

NTSB-23

SYSTEM NAME:

Transit Subsidy Program Records.

SYSTEM LOCATION:

National Transportation Safety Board, Office of Administration, 490 L'Enfant Plaza, SW., Washington, DC 20594.

CATEGORIES OF INDIVIDUALS COVERED BY THE SYSTEM:

NTSB employees who apply for transit subsidy benefits from the Federal government.

CATEGORIES OF RECORDS IN THE SYSTEM:

These records consist of Transit Subsidy applications which include, but are not limited to, the applicant's name, address, telephone number, last four digits of Social Security number, office division, commuting costs, and employee certification. The NTSB collects these transit subsidy applications on a regular annual basis.

AUTHORITY FOR MAINTENANCE OF THE SYSTEM:

5 U.S.C. 7905; 26 U.S.C. 132(f)(2); IRS Revenue Procedure 2004-71, section 132(f)(2)(A).

PURPOSE(S):

The NTSB maintains this system of records in order to provide transit subsidy benefits to eligible NTSB employees.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure to the Department of Transportation, for administration of the transit subsidy program and distribution of benefits to eligible recipients;

2. Disclosure to officials of labor organizations under 5 U.S.C. chapter 71, when relevant and necessary to the organizations' duties of exclusive representation concerning personnel policies, practices, and matters affecting working conditions; and

3. Disclosure to the Internal Revenue Service for taxable earnings and withholding purposes, or for audit and inspection and investigation purposes, when necessary.

DISCLOSURE TO CONSUMER REPORTING AGENCIES:

None.

POLICIES AND PRACTICES FOR STORING, RETRIEVING, ACCESSING, RETAINING, AND DISPOSING OF RECORDS IN THE SYSTEM:

STORAGE:

The NTSB maintains records within this system in paper file folders within a locked file cabinet and in an electronic database.

RETRIEVABILITY:

Records are indexed by employee's name or last four digits of employee's Social Security number.

SAFEGUARDS:

The NTSB maintains paper records within this system in a locked file cabinet that is restricted through electronic keycards to enter the facility where records are located. Computerized records are maintained in secure, password protected computer system. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

As stated above, the NTSB collects transit subsidy applications on a regular annual basis. The NTSB retains applications for a period of 3 years, after which the NTSB destroys the applications, pursuant to General Records Schedule 9.

SYSTEM MANAGER AND ADDRESS:

Chief, Administrative Services Division, National Transportation Safety Board, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Last four digits of Social Security Number;

3. Dates of employment or NTSB service; and

4. Signature.

RECORD ACCESS PROCEDURE:

Same as “Notification Procedure.”

CONTESTING RECORD PROCEDURE:

Same as “Notification Procedure.”

RECORD SOURCE CATEGORIES:

Employees who apply for transit subsidy benefits, applicants' supervisors, the NTSB Office of Administration, and the Department of Transportation.

EXEMPTIONS CLAIMED FOR THE SYSTEM:

None.

NTSB-24

SYSTEM NAME:

Facility Security Access Control System

SYSTEM LOCATION:

National Transportation Safety Board, Office of Administration, 490 L'Enfant Plaza, SW., Washington, DC 20594.

CATEGORIES OF INDIVIDUALS COVERED BY THE SYSTEM:

All individuals and personnel that require access to NTSB Headquarters and regional office facilities. This includes NTSB employees, contractors, temporary employees, interns, property managers, volunteer workers, and any persons that the NTSB may permit to access NTSB facilities.

CATEGORIES OF RECORDS IN THE SYSTEM:

These records consist of electronic cardholder information, which includes, but is not limited to, the individual's name, keycard number, personal identification number, access level, and cardholder history and transaction reports.

AUTHORITY FOR MAINTENANCE OF THE SYSTEM:

Federal Information Security Management Act, enacted as Title III of E-Government Act of 2002, Public Law No. 107-347, 116 Stat. 2899 (codified at 44 U.S.C. 3541 et seq.)

PURPOSE(S):

The NTSB maintains this system to provide individuals with an electronic keycard to access secured office space and areas within the NTSB headquarters and regional office facilities.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure to property managers for building maintenance and/or security purposes; and

2. Disclosure to other Federal agencies that need the information for an audit or investigation.

DISCLOSURE TO CONSUMER REPORTING AGENCIES:

None.

POLICIES AND PRACTICES FOR STORING, RETRIEVING, ACCESSING, RETAINING, AND DISPOSING OF RECORDS IN THE SYSTEM:

STORAGE:

The NTSB maintains this system in specialized electronic database.

RETRIEVABILITY:

Records within this system are indexed by individual's name, keycard number, personal identification number, and access level.

SAFEGUARDS:

The NTSB maintains the computerized records within this system in secure, password protected computer system. Access to and use of these records is limited to those persons whose official duties require such access, and this System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB retains information in this database for periods of up to six months. The database runs on a regular schedule with regard to deleting records within the database after the passage of approximately six months; deletion of records older than six months occurs on a rolling basis.

SYSTEM MANAGER AND ADDRESS:

Chief, Administrative Services Division, National Transportation Safety Board, 490 L'Enfant Plaza, SW., Washington, DC 20594

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Dates of employment or NTSB service; and

3. Signature.

RECORD ACCESS PROCEDURE:

Same as “Notification Procedure.”

CONTESTING RECORD PROCEDURE:

Same as “Notification Procedure.”

RECORD SOURCE CATEGORIES:

Individuals who require access to NTSB headquarters and regional offices.

EXEMPTIONS CLAIMED FOR THE SYSTEM:

None.

NTSB-25

SYSTEM NAME:

Employee Purchase Card Holders.

SYSTEM LOCATION:

National Transportation Safety Board, Office of Administration, 490 L'Enfant Plaza, SW., Washington, DC 20594.

CATEGORIES OF INDIVIDUALS COVERED BY THE SYSTEM:

NTSB employees who apply for and use NTSB-assigned purchase cards

CATEGORIES OF RECORDS IN THE SYSTEM:

This system includes personal information on individuals who apply for and use Federal charge cards, including individuals' names, Social Security numbers, business addresses (including city, state, country, and zip code), title or position, business telephone, business fax number, and business e-mail address. This system also includes account processing and management information, such as purchase authorizations and vouchers, charge card applications, charge card receipts, terms and conditions for card use, charge card transactions, contractor monthly reports showing charges to individual account numbers, account balances, and other data needed to authorize, account for, and pay authorized purchase card expenses.

The NTSB also maintains in this system a master list of open accounts that includes: cardholder names; transaction and card limits; cardholder business address and business telephone number; and the name of the official who has approved purchases using the purchase card(s).

AUTHORITY FOR MAINTENANCE OF THE SYSTEM:

40 U.S.C. 501-502; 41 U.S.C. chapter 4; Executive Order Nos. 9,397 and 12,931.

PURPOSE(S):

The NTSB uses this system to establish and maintain accurate records necessary for operating, controlling, and managing a purchase charge card program involving commercial purchases by authorized NTSB employees.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure to a Federal, state, local, or foreign agency responsible for investigating, prosecuting, enforcing, or carrying out a statute, rule, regulation, or order, where an agency becomes aware of a violation or potential violation of civil or criminal law or regulation;

2. Disclosure to labor organization officials to provide information defined under 5 U.S.C. chapter 71, when the information is relevant and necessary to their duties of exclusive representation concerning personnel policies, practices, and matters affecting work conditions;

3. Disclosure to the Government Accountability Office (GAO) or other Federal agencies when such agencies require the information to carry out their respective missions, such as conducting an audit;

4. Disclosure to an expert, consultant, or contractor in the performance of a Federal duty to which the information is relevant, including issuance of purchase cards; and

5. Disclosure to the National Business Center of the Department of Interior, for facilitating collection of travel card delinquencies by employee salary offset.

DISCLOSURE TO CONSUMER REPORTING AGENCIES:

The NTSB may disclose records within this system to a consumer reporting agency when such disclosure is compliant with 5 U.S.C. 552a(b)(12).

POLICIES AND PRACTICES FOR STORING, RETRIEVING, ACCESSING, RETAINING, AND DISPOSING OF RECORDS IN THE SYSTEM:

STORAGE:

The NTSB stores records within this system on paper in file folders, and stores certain information from the paper records in electronic media.

RETRIEVABILITY:

Records are indexed by name, credit card number, credit limits and scores, and Social Security numbers.

SAFEGUARDS:

The NTSB maintains paper records within this system in a locked file cabinet that is restricted through electronic keycards to enter the facility where records are located. Computerized records are maintained in secure, password protected computer system. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB destroys these records after the expiration of 3 years subsequent to the NTSB's final payment for the purchase, in accordance with subpart 4.805 of the Federal Acquisition Regulations and General Records Schedule 3, item 3a(1)(b).

SYSTEM MANAGER AND ADDRESS:

Chief, Administrative Services Division, National Transportation Safety Board, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date of birth;

3. Social Security number;

4. Dates of employment or NTSB service; and

5. Signature.

RECORD ACCESS PROCEDURE:

Same as “Notification Procedure.”

CONTESTING RECORD PROCEDURE:

Same as “Notification Procedure.”

RECORD SOURCE CATEGORIES:

The NTSB obtains information in this system from individuals submitting Purchase Card applications, monthly contractor reports, purchase records, managers, other agencies, and non-Federal sources such as private firms.

EXEMPTIONS CLAIMED FOR THE SYSTEM:

None.

NTSB-26

SYSTEM NAME:

Office of Workers' Compensation Claim Records.

SYSTEM LOCATION:

National Transportation Safety Board, Human Resources Division, 490 L'Enfant Plaza SW., Washington, DC 20594. In addition, the NTSB may transfer records within this system to the Department of Labor, which maintains the records in accordance with DOL/GOVT-1.

CATEGORIES OF INDIVIDUALS COVERED BY THE SYSTEM:

Current or former NTSB employees who report an occupational injury or illness.

CATEGORIES OF RECORDS IN THE SYSTEM:

This system of records contains information regarding the location and descriptions of an employee's injury or illness, treatment, and disposition of the claim, as well as copies of Office of Workers' Compensation Program claim forms, adjudication decisions, and hearing transcripts.

AUTHORITY FOR MAINTENANCE OF THE SYSTEM:

5 U.S.C. 8101—8193.

PURPOSE(S):

The NTSB maintains this system in accordance with statutory requirements regarding the availability of workers' compensation, and the handling of claims for workers' compensation.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine use:

• Disclosure to the Department of Labor in accordance with an authorized representative under Department of Labor regulations, and to prepare periodic statistical reports on employees' health and injury status for transmission to and review by the Department of Labor (DOL).

DISCLOSURE TO CONSUMER REPORTING AGENCIES:

None, except as described at 5 U.S.C. 552a(b)(12).

POLICIES AND PRACTICES FOR STORING, RETRIEVING, ACCESSING, RETAINING, AND DISPOSING OF RECORDS IN THE SYSTEM:

STORAGE:

The NTSB maintains these records on paper within file folders.

RETRIEVABILITY:

The records within this system are indexed by employee name, organization, date of injury or illness, and assigned DOL claim number.

SAFEGUARDS:

The NTSB maintains paper records within this system in a locked file cabinet that is restricted through electronic keycards to enter the facility where records are located. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB destroys employee case files 5 years after the disposition of the worker's compensation claim, in accordance with the National Archives and Records Administration's General Records Schedule 1, item 34.

SYSTEM MANAGER AND ADDRESS:

Chief, Human Resources Division, National Transportation Safety Board, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date of birth;

3. Social Security number;

4. Dates of employment or NTSB service; and

5. Signature.

RECORD ACCESS PROCEDURE:

Same as “Notification Procedure.”

CONTESTING RECORD PROCEDURE:

Same as “Notification Procedure.”

RECORD SOURCE CATEGORIES:

The NTSB obtains information for records in this system from: claimants; NTSB supervisors or employees whose official duties require the processing of such claims; and Occupational Safety and Health Administration, within the Department of Labor.

EXEMPTIONS CLAIMED FOR THE SYSTEM:

None.

NTSB-27

SYSTEM NAME:

Employee Performance Folders.

SYSTEM LOCATION:

Records regarding current NTSB employees are located at: National Transportation Safety Board, Human Resources Division, 490 L'Enfant Plaza, SW., Washington, DC 20594. Records regarding former NTSB employees who have not transferred to another Federal agency are located at the National Personnel Records Center, National Archives and Records Administration, 111 Winnebago Street, St. Louis, Missouri 63118.

CATEGORIES OF INDIVIDUALS COVERED BY THE SYSTEM:

Current and former NTSB employees.

CATEGORIES OF RECORDS IN THE SYSTEM:

Records within this system reflect Federal employees' annual performance appraisals, and documents in connection with incentive awards. All categories of records include identifying information, such as employee's name, social security number, and date of birth.

AUTHORITY FOR MAINTENANCE OF THE SYSTEM:

5 U.S.C. chapter 43; 5 CFR part 293.

PURPOSE(S):

The NTSB maintains this system of records to keep reports of incentive award personnel actions and employee's annual performance appraisals. This system of records is the repository of basic factual data about an employee's performance while in the service for the Federal government. Records in this system have various uses by the agency Human Resources Division, including employee relations purposes and audit purposes.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure to labor organization officials to provide information defined under 5 U.S.C. chapter 71, when the information is relevant and necessary to their duties of exclusive representation concerning personnel policies, practices, and matters affecting work conditions;

2. Disclosure to other Federal or foreign agencies that need the information for an audit or investigation of a civil, criminal, or regulatory violation or potential violation;

3. Disclosure to any source from which the NTSB requests additional information for processing any of the covered actions or in regard to an appeal or administrative review procedure, to the extent necessary to identify the individual, inform the source of the purpose(s) of the request, and identify the type of information requested;

4. Disclosure to a Federal agency, in response to its request, in connection with hiring or retaining an employee, issuing a security clearance, conducting a security or suitability investigation of an individual, or classifying jobs, to the extent that the information is relevant and necessary to the requesting agency's decisions on the matter;

5. Disclosure to another Federal agency, to a court, or to a party in litigation before a court or in an administrative proceeding being conducted by a Federal agency, when the Government is a party to the judicial or administrative proceeding;

6. Disclosure to other agencies or contractors for other agencies, when disclosure is necessary to locate individuals for personnel research or survey response and in producing summary descriptive statistics and analytical studies in support of the function for which the other organization seeks to collect the record, or for related workforce studies; the NTSB notes that, while published statistics and studies do not contain individual identifiers, in some instances the selection of elements of data included in the study may be structured in such a way as to make the data individually identifiable by inference;

7. Disclosure to a party engaged in litigation of information that is relevant to subject matter concerning a pending judicial or administrative proceeding, when such disclosure is subject to discovery or order from a court with competent jurisdiction; and

8. Disclosure to the Merit System Protection Board in connection with appeals, special studies of the civil service and other merit systems, review of agency rules and regulations, investigations of alleged or possible prohibited personnel practices, and such other functions, as promulgated in 5 U.S.C. 1205 and 1206, and as specified in 5 U.S.C. 7503(c) and 7513(e), or as may be authorized by any other applicable statute.

DISCLOSURE TO CONSUMER REPORTING AGENCIES:

None.

POLICIES AND PRACTICES FOR STORING, RETRIEVING, ACCESSING, RETAINING, AND DISPOSING OF RECORDS IN THE SYSTEM:

STORAGE:

The NTSB maintains these records on paper within file folders.

RETRIEVABILITY:

These records are indexed by name, date of birth, and Social Security number.

SAFEGUARDS:

The NTSB maintains paper records within this system in a locked file room that is restricted through electronic keycards to enter the facility where records are located. Access to and use of these records is limited to those persons whose official duties require such access, and the Facility Security Access Control System (NTSB-24) logs the date and time that each electronic keycard was used to enter location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB maintains each employee's Employee Performance Folder for the period of the employee's service in the agency. When an employee transfers to another Federal agency, the NTSB transmits these records to the new agency. When an employee retires, resigns or dies, the NTSB forwards the employee's record to the National Personnel Records Center.

SYSTEM MANAGER AND ADDRESS:

Chief, Administrative Services Division, National Transportation Safety Board, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date of birth;

3. Social Security number;

4. Dates of employment or NTSB service; and

5. Signature.

RECORD ACCESS PROCEDURE:

Same as “Notification Procedure.”

CONTESTING RECORD PROCEDURE:

Same as “Notification Procedure.”

RECORD SOURCE CATEGORIES:

NTSB employees, supervisors, officials with the NTSB Office of Administration and Human Resources Division, and management officials.

EXEMPTIONS CLAIMED FOR THE SYSTEM:

None.

NTSB-28

SYSTEM NAME:

Employee Medical Folders.

SYSTEM LOCATION:

Records regarding current NTSB employees are located at: National Transportation Safety Board, Human Resources Division, 490 L'Enfant Plaza, SW., Washington, DC 20594. Records regarding former NTSB employees who have not transferred to another Federal agency are located at the National Personnel Records Center, National Archives and Records Administration, 111 Winnebago Street, St. Louis, Missouri 63118.

CATEGORIES OF INDIVIDUALS COVERED BY THE SYSTEM:

Current and former NTSB employees.

CATEGORIES OF RECORDS IN THE SYSTEM:

This system contains records reflecting Federal employees' medical documentation and any documents pertaining to an employee's medical condition(s), including medical reports, forms, and reports generated as a result of requests for work accommodations or benefits related to a medical condition. All categories of records may include identifying information, such as employee's name, Social Security number, date of birth, and any medical condition.

AUTHORITY FOR MAINTENANCE OF THE SYSTEM:

5 U.S.C. 1302; 5 CFR 501-511.

PURPOSE(S):

This system of records is the official repository of employees' medical records; the NTSB maintains the records in this system for employee relation purposes, for handling potential work performance issues, and for audit purposes. The NTSB also maintains the records in this system in order to ensure that all relevant, necessary, accurate, and timely data are available to support any medical-related employment decisions affecting the subject of the records.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure to labor organization officials to provide information defined under 5 U.S.C. chapter 71, when the information is relevant and necessary to their duties of exclusive representation concerning personnel policies, practices, and matters affecting work conditions;

2. Disclosure to other agencies or contractors for other agencies, when disclosure is necessary to locate individuals for personnel research or survey response and in producing summary descriptive statistics and analytical studies in support of the function for which the other organization seeks to collect the record, or for related workforce studies; the NTSB notes that, while published statistics and studies do not contain individual identifiers, in some instances the selection of elements of data included in the study may be structured in such a way as to make the data individually identifiable by inference; and

3. Disclosure to the Merit System Protection Board in connection with appeals, special studies of the civil service and other merit systems, review of agency rules and regulations, investigations of alleged or possible prohibited personnel practices, and such other functions, as promulgated in 5 U.S.C. 1205 and 1206, and as specified in 5 U.S.C. 7503(c) and 7513(e), or as may be authorized by any other applicable statute.

DISCLOSURE TO CONSUMER REPORTING AGENCIES:

None.

POLICIES AND PRACTICES FOR STORING, RETRIEVING, ACCESSING, RETAINING, AND DISPOSING OF RECORDS IN THE SYSTEM:

STORAGE:

The NTSB maintains the records in this system on paper within file folders.

RETRIEVABILITY:

These records are indexed by name, date of birth, and Social Security number.

SAFEGUARDS:

The NTSB maintains paper records within this system in a locked file room that is restricted through electronic keycards to enter the area where records are located. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The Employee Medical Folder is maintained for the period of the employee's service in the agency. When an employee leaves the agency, these records are either transferred with the employee to the new agency or once an employee either retires, resigns or dies, the record is forwarded to the National Personnel Records Center for permanent storage, in accordance with General Records Schedule 1, item 21.

SYSTEM MANAGER AND ADDRESS:

Chief, Human Resources Division, National Transportation Safety Board, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date of birth;

3. Social Security number;

4. Dates of employment or NTSB service; and

5. Signature.

RECORD ACCESS PROCEDURE:

Same as “Notification Procedure.”

CONTESTING RECORD PROCEDURE:

Same as “Notification Procedure.”

RECORD SOURCE CATEGORIES:

NTSB employees, supervisors, officials with the NTSB Office of Administration and Human Resources Division, other Federal agencies, and management officials

EXEMPTIONS CLAIMED FOR THE SYSTEM:

None.

NTSB-29

SYSTEM NAME:

Job Application and Merit Promotion Files.

SYSTEM LOCATION:

National Transportation Safety Board, Human Resources Division, 490 L'Enfant Plaza, SW., Washington, DC 20594.

CATEGORIES OF INDIVIDUALS COVERED BY THE SYSTEM:

Current and former NTSB employees; applicants for NTSB employment.

CATEGORIES OF RECORDS IN THE SYSTEM:

This system contains records regarding current NTSB employees and applicants for NTSB employment and merit promotion within the NTSB, including Form OF-612, applicants' names, Social Security numbers, home addresses, vacancy announcements, employment history, training and educational background, examination results, supervisors' evaluations, and other records relevant to an individual's application for a position or promotion at the NTSB.

AUTHORITY FOR MAINTENANCE OF THE SYSTEM:

5 U.S.C. 3301-3397, 5101-5115.

PURPOSE(S):

The NTSB maintains this system of records in order to process and respond to applications for employment or promotion at the NTSB.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure to labor organization officials to provide information defined under 5 U.S.C. chapter 71, when the information is relevant and necessary to their duties of exclusive representation concerning personnel policies, practices, and matters affecting work conditions;

2. Disclosure to other agencies or contractors for other agencies, when disclosure is necessary to locate individuals for personnel research or survey response and in producing summary descriptive statistics and analytical studies in support of the function for which the other organization seeks to collect the record, or for related workforce studies; the NTSB notes that, while published statistics and studies do not contain individual identifiers, in some instances the selection of elements of data included in the study may be structured in such a way as to make the data individually identifiable by inference;

3. Disclosure to the Merit System Protection Board in connection with appeals, special studies of the civil service and other merit systems, review of agency rules and regulations, investigations of alleged or possible prohibited personnel practices, and such other functions, as promulgated in 5 U.S.C. 1205 and 1206, and as specified in 5 U.S.C. 7503(c) and 7513(e), or as may be authorized by any other applicable statute; and

4. Disclosure to the Office of Federal Employees Life Insurance or to health insurance carriers to provide benefit information regarding NTSB employees.

DISCLOSURE TO CONSUMER REPORTING AGENCIES:

None.

POLICIES AND PRACTICES FOR STORING, RETRIEVING, ACCESSING, RETAINING, AND DISPOSING OF RECORDS IN THE SYSTEM:

STORAGE:

The NTSB maintains the records in this system concerning merit promotions on paper within file folders. The NTSB maintains the records in this system concerning job applications in an electronic database.

RETRIEVABILITY:

Records concerning merit promotions are indexed by name, date of birth, and Social Security number; records concerning applications for employment are indexed by applicant's name and by vacancy announcement number.

SAFEGUARDS:

The NTSB maintains paper records within this system in a locked file cabinet that is restricted through electronic keycards to enter the facility where records are located. Computerized records are maintained in a secure, password protected computer system. Access to and use of these records is limited to those persons whose official duties require such access, and the Facility Security Access Control System (NTSB-24) logs the date and time that each electronic keycard was used to enter the location.

This system conforms to all applicable Federal laws and regulations, as well as NTSB policies and standards, as they relate to information security and data privacy. In this regard, the following laws and regulations may apply: the Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB destroys records from this system concerning each vacancy or promotion under merit competition procedures after 2 years following either the date of the selection of a candidate for the position or the conclusion of an Office of Personnel Management audit, whichever is sooner, in accordance with General Records Schedule 1, item 32.

SYSTEM MANAGER AND ADDRESS:

Chief, Administrative Services Division, National Transportation Safety Board, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date of birth;

3. Social Security number;

4. Dates of employment or NTSB service; and

5. Signature.

RECORD ACCESS PROCEDURE:

Same as “Notification Procedure.”

CONTESTING RECORD PROCEDURE:

Same as “Notification Procedure.”

RECORD SOURCE CATEGORIES:

Applicants for NTSB positions, NTSB employees, supervisors, officials with the NTSB Office of Administration and Human Resources Division, other Federal agencies, and management officials.

EXEMPTIONS CLAIMED FOR THE SYSTEM:

None.

NTSB-30

SYSTEM NAME:

Employee Training Records.

SYSTEM LOCATION:

NTSB Training Center, 45065 Riverside Parkway, Ashburn, Virginia 20147.

CATEGORIES OF INDIVIDUALS COVERED BY THE SYSTEM:

Current NTSB employees.

CATEGORIES OF RECORDS IN THE SYSTEM:

Records include employee's name and Social Security number, business and home address, and person to be notified in case of emergency. Records reflect career development plans, training courses that individuals seek to attend or have attended, and any related records concerning mentoring or career progression of employees. This system also includes employees' Individual Development Plans.

AUTHORITY FOR MAINTENANCE OF THE SYSTEM:

5 U.S.C. 301 et seq., 2951, 3301, 4101-4121, 4302; 5 CFR part 293.

PURPOSE(S):

The NTSB maintains this system in order to create and maintain a list of training needs for developing future training initiatives, and to assess individuals' training in the interest of evaluating individuals' skill levels.

ROUTINE USES OF RECORDS MAINTAINED IN THE SYSTEM, INCLUDING CATEGORIES OF USERS, AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure to educational institutions on appointment of a recent graduate to a position in the Federal service; and

2. Disclosure to officials of labor organizations under 5 U.S.C. chapter 71, when relevant and necessary to the organizations' duties of exclusive representation concerning personnel policies, practices, and matters affecting working conditions.

DISCLOSURE TO CONSUMER REPORTING AGENCIES:

None.

POLICIES AND PRACTICES FOR STORING, RETRIEVING, ACCESSING, RETAINING, AND DISPOSING OF RECORDS IN THE SYSTEM:

STORAGE:

Records are stored on paper in file folders at the NTSB Training Center, at the address above. The NTSB may scan all paper records into a learning management system, which will function as the master database of all training activities and records.

RETRIEVABILITY:

The records are indexed by name, within major topic categories. Once the NTSB begins using the aforementioned new database, records will be retrievable by name, office, keyword, class title, and date of training class.

SAFEGUARDS:

Records are maintained in locked file cabinets that are further secured in locked rooms that are restricted through electronic keycards to enter the facility where records are located. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB maintains records within this system for the period of the employee's service at the NTSB. When an employee leaves the NTSB to begin employment at another Federal agency, the NTSB transfers these records to the employee's new Federal agency. When an employee retires, resigns, or dies, the NTSB forwards the employee's record to the National Personnel Records Center. The NTSB or National Personnel Records Center will destroy these records by shredding them once they are either obsolete or 5 years old, in accordance with General Records Schedule 1, item 29b.

SYSTEM MANAGER(S) AND ADDRES S:

NTSB Training Officer, 45065 Riverside Parkway, Ashburn, Virginia 20147.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Social Security number;

3. Dates of employment; and

4. Signature.

RECORD ACCESS PROCEDURE:

Same as “Notification Procedure.”

CONTESTING RECORD PROCEDURE:

Same as “Notification Procedure.”

RECORD SOURCE CATEGORIES:

The NTSB obtains information in this system from the individual to whom the record pertains and NTSB officials responsible for the individual's career development and training.

EXEMPTIONS CLAIMED FOR THIS SYSTEM:

None.

NTSB-31

SYSTEM NAME:

Labor-Management Relations Records.

SYSTEM LOCATION:

National Transportation Safety Board, Human Resources Division, 490 L'Enfant Plaza, SW., Washington, DC 20594.

CATEGORIES OF INDIVIDUALS COVERED BY THE SYSTEM:

Current and former National Transportation Safety Board employees and union representatives.

CATEGORIES OF RECORDS IN THE SYSTEM:

This system contains files on grievances and arbitrations filed pursuant to grievance procedures negotiated in accordance with 5 U.S.C. 7121, including reports of interviews, correspondence with arbitrators, hearing transcripts, arbitration awards, exceptions (i.e., appeals) to the Federal Labor Relations Authority, and related correspondence and exhibits.

AUTHORITY FOR MAINTENANCE OF THE SYSTEM:

5 U.S.C. 7101-7135.

PURPOSE(S):

The NTSB maintains this system of records in order to comply with 5 U.S.C. 7101-7135.

ROUTINE USES OF RECORDS MAINTAINED IN THE SYSTEM, INCLUDING CATEGORIES OF USES AND THE PURPOSES OF SUCH USES:

In addition to the disclosures permitted under subsection (b) of the Privacy Act, and described in Appendix A, below, the NTSB may disclose information contained in this system of records without the consent of the subject individual if the disclosure is compatible with the purpose for which the record was collected under the following routine uses:

1. Disclosure to labor organization officials to provide information defined under 5 U.S.C. chapter 71, when the information is relevant and necessary to their duties of exclusive representation concerning personnel policies, practices, and matters affecting working conditions (but information covered by 5 U.S.C. 7114(b)(4)(c) need not be released to labor organizations);

2. Disclosure to other agencies or contractors for other agencies, when disclosure is necessary to locate individuals for personnel research or survey response and in producing summary descriptive statistics and analytical studies in support of the function for which the other organization seeks to collect the record, or for related workforce studies; the NTSB notes that, while published statistics and studies do not contain individual identifiers, in some instances the selection of elements of data included in the study may be structured in such a way as to make the data individually identifiable by inference; and

3. Disclosure to the Merit System Protection Board in connection with appeals, special studies of the civil service and other merit systems, review of agency rules and regulations, investigations of alleged or possible prohibited personnel practices, and such other functions, as promulgated in 5 U.S.C. 1205 and 1206, and as specified in 5 U.S.C. 7503(c) and 7513(e), or as may be authorized by any other applicable statute.

DISCLOSURE TO CONSUMER REPORTING AGENCIES:

None.

POLICIES AND PRACTICES FOR STORING, RETRIEVING, ACCESSING, RETAINING, AND DISPOSING OF RECORDS IN THE SYSTEM:

STORAGE:

The NTSB maintains these records on paper in file folders within an automated file cabinet.

RETRIEVABILITY:

The NTSB indexes these records by name.

SAFEGUARDS:

The NTSB maintains paper records within this system in a locked file room that is restricted through electronic keycards to enter the room where records are located. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

The NTSB destroys these records 5 years after the final resolution of the case to which they apply, in accordance with General Records Schedule 1, item 28b.

SYSTEM MANAGER AND ADDRESS:

Chief, Human Resources Division, National Transportation Safety Board, 490 L'Enfant Plaza, SW., Washington, DC 20594.

NOTIFICATION PROCEDURE:

Individuals wishing to inquire about whether this system of records contains information about them may contact the Chief, Records Management Division, National Transportation Safety Board, 490 L'Enfant Plaza, SW., Washington, DC 20594. Individuals must comply with NTSB regulations regarding the Privacy Act, at 5 CFR part 802, and must furnish the following information for their records to be located and identified:

1. Full name(s);

2. Date of birth;

3. Social Security number;

4. Dates of employment; and

5. Signature.

RECORD ACCESS PROCEDURE:

Same as “Notification Procedure.”

CONTESTING RECORD PROCEDURE:

Same as “Notification Procedure.”

RECORD SOURCE CATEGORIES:

The NTSB obtains the records in this system from NTSB employees and supervisors, NTSB Office of Administration, representatives of NTSB employees, arbitrators, the Federal Labor Relations Authority, the Federal Service Impasse Panel, and the Federal Mediation and Conciliation Service.

EXEMPTIONS CLAIMED FOR THE SYSTEM:

To the extent that any records in this system consist of attorney work product or attorney-client communications, 5 U.S.C. 552a(d)(5) may apply to preclude access to any information compiled in reasonable anticipation of a civil action or proceeding.

NTSB-32

SYSTEM NAME:

Public Financial Disclosure Reports and Other Name-Retrieved Ethics Program Records.

SYSTEM LOCATION:

National Transportation Safety Board, Office of General Counsel, 490 L'Enfant Plaza, SW., Washington, DC 20594.

CATEGORIES OF INDIVIDUALS COVERED BY THE SYSTEM:

Current and former NTSB employees who have filed financial disclosure statements under the requirements of the Ethics in Government Act of 1978 (hereinafter “Ethics Act”), as amended, or to whom the Ethics Act otherwise applies.

CATEGORIES OF RECORDS IN THE SYSTEM:

This system contains information that is necessary for administration of all provisions of the Ethics Act and the Ethics Reform Act of 1989, as amended, and Executive Order 12,674, as modified. In particular, this system contains financial information, as well as information concerning: Gifts received, certain liabilities, former employment, and assets placed in trust pending disposal. The NTSB incorporates by reference the text of OGE/GOVT-1 into this Notice; as such, this Notice contains a summary of the information and provisions of OGE/GOVT-1 and descriptions of how NTSB-5 is consistent with OGE/GOVT-1, and identifies any differences between NTSB-32 and OGE/GOVT-1. OGE/GOVT-1 is available at 68 FR 3098 (Jan. 22, 2003), as updated at 68 FR 24744 (May 8, 2003).

AUTHORITY FOR MAINTENANCE OF THE SYSTEM:

Title I of the Ethics in Government Act of 1978, Public Law No. 95-521, 92 Stat. 1824 (codified as amended 5 U.S.C. 7301, 7351, 7353, and other scattered sections of 5 U.S.C.); 5 CFR part 2634; 31 U.S.C. 1353; Executive Order 12,674 (as modified by Executive Order 12,731).

PURPOSE(S):

The NTSB collects the records in this system in order to comply with the Ethics Act, and implementing Office of Government Ethics (OGE) regulations and applicable Executive Orders. The collection of these records is necessary to assure compliance with statutory and regulatory requirements, and to preserve and promote the integrity of public officials and institutions. These requirements also include the NTSB's Designated Agency Ethics Official (DAEO) possession or maintenance of information that the DAEO researches or prepares for referral to an Inspector General or the Department of Justice, concerning employees or former employees of the Federal Government who are the subject of complaints of misconduct or alleged violations of ethics statutes.

ROUTINE USES OF RECORDS MAINTAINED IN THE SYSTEM, INCLUDING CATEGORIES OF USERS, AND THE PURPOSES OF SUCH USES:

The NTSB notes that, when the Director or other authorized officials of OGE requests that the NTSB furnish OGE with records from this system, such disclosure will be in response to OGE's need for the records in the performance of their official duties under the Ethics Act, and other related statutes, regulations, and Executive Orders, pursuant to 5 U.S.C. 552a(b)(1). In addition to other disclosures permitted under subsection (b) of the Privacy Act, and described in Appendix A, below, the NTSB may disclose information contained in this system of records without the consent of the subject individual if the disclosure is compatible with the purpose for which the record was collected under the following routine use:

1. Disclosure of information furnished by the reporting official, in accordance with provisions of section 105 of the Ethics Act, as amended, to any requesting person;

2. Disclosure, in accordance with section 105 of the Ethics Act, as amended, and subject to the limitations contained in 18 U.S.C. 208(d)(1), of any determination granting an exemption pursuant to section 208(d)(1) or 18 U.S.C. 208(b)(3), to any requesting person;

3. Disclosure of information to any source when necessary to obtain information relevant to a conflict-of-interest investigation or determination;

4. Disclosure of public financial disclosure reports and any accompanying documents to reviewing officials in a new office, department, or agency when an employee transfers or is detailed from a covered position in one office, department, or agency to a covered position in another office, department, or agency.

DISCLOSURE TO CONSUMER REPORTING AGENCIES:

None.

POLICIES AND PRACTICES FOR STORING, RETRIEVING, ACCESSING, RETAINING, AND DISPOSING OF RECORDS IN THE SYSTEM

STORAGE:

The NTSB maintains these records on paper in file folders.

RETRIEVABILITY:

Records in this system are indexed alphabetically by name.

SAFEGUARDS:

Records are maintained in locked file cabinets that are restricted through electronic keycards to enter the facility where records are located. Access to and use of these records is limited to those persons whose official duties require such access, and the Facility Security Access Control System (NTSB-24) logs the date and time that each electronic keycard was used to enter the location. This system conforms to all applicable Federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996; the E-Government Act of 2002; and corresponding regulations implementing these statutes.

RETENTION AND DISPOSAL:

In accordance with General Records Schedule 25, the NTSB retains these records for a period of six years after filing, or for such other period of time as set forth in Schedule 25 for certain types of ethics records. The NTSB may retain records needed in an ongoing investigation for a period that exceeds six years, until the investigation no longer requires such records. At the expiration of the retention period, the NTSB destroys these records by shredding them.

SYSTEM MANAGER(S) AND ADDRESS:

Designated Agency Ethics Official, National Transportation Safety Board, 490 East L'Enfant Plaza, SW., Washington, DC 20594.

NOTIFICATION PROCEDURE:

Individuals wishing to inquire about whether this system of records contains information about them may contact the Designated Agency Ethics Official at the following address: National Transportation Safety Board, 490 L'Enfant Plaza, SW., Washington, DC 20594. Individuals must comply with NTSB regulations regarding the Privacy Act, at 5 CFR part 802, and must furnish the following information for their records to be located and identified:

1. Full name(s);

2. Dates of employment; and

3. Signature.

RECORD ACCESS PROCEDURES:

Same as “Notification Procedure.”

CONTESTING RECORD PROCEDURES:

Same as “Notification Procedure.”

RECORD SOURCE CATEGORIES:

Current and former NTSB employees, or designated persons on behalf of such employees, such as trustees, attorneys, accountants, bankers, or relatives; Federal officials who review the records to make conflict-of-interest determinations; persons alleging conflicts of interest or violations of other ethics laws, and persons contacted during any investigation of the allegations.

EXEMPTIONS CLAIMED FOR THE SYSTEM:

None.

Appendix A: General Routine Uses Applicable to All Systems of Records

The NTSB may make the following disclosures of information from the above-listed systems of records.

A. Disclosure for Law Enforcement Purposes

When information indicates a violation or potential violation of law, whether civil, criminal or regulatory in nature, and whether arising by general statute or particular program statute, or by regulation, rule, or order issued pursuant thereto, disclosure may be made to the appropriate agency, whether Federal, foreign, State, local, or tribal, or other public authority responsible for enforcing, investigating or prosecuting such violation or charged with enforcing or implementing the statute, rule, regulation, or order issued pursuant thereto, if the information disclosed is relevant to any enforcement, regulatory, investigative or prosecutive responsibility of the receiving entity.

B. Disclosure Incident to Requesting Information

Information may be disclosed to any source from which additional information is requested (to the extent necessary to identify the individual, inform the source of the purpose(s) of the request, and to identify the type of information requested), when necessary to obtain information relevant to an agency decision concerning retention of an employee or other personnel action (other than hiring), retention of a security clearance, the letting of a contract, or the issuance or retention of a grant, or other benefit.

C. Disclosure to Requesting Agency

Disclosure may be made to a Federal, State, local, foreign, or tribal or other public authority of the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative, personnel, or regulatory action.

D. Disclosure to Congressional Offices

Information may be disclosed to a congressional office from the record of an individual in response to an inquiry from the congressional office made at the written request of the individual about whom the record is maintained. The NTSB will not make such a disclosure until the congressional office has furnished appropriate documentation of the individual's request, such as a copy of the individual's written request.

E. Disclosure to Department of Justice

Information may be disclosed to the Department of Justice, or in a proceeding before a court, adjudicative body, or other administrative body before which the NTSB is authorized to appear, when:

1. The NTSB, or any component thereof; or

2. Any employee of the NTSB in his or her official capacity; or

3. Any employee of the NTSB in his or her individual capacity where the Department of Justice or the NTSB has agreed to represent the employee; or

4. The United States is a party to litigation or has an interest in such litigation, and the NTSB determines that the records are both relevant and necessary to the litigation and the use of such records is deemed by the NTSB to be for a purpose that is compatible with the purpose for which the records were collected.

F. Disclosure to the National Archives and General Services Administration

Information may be disclosed to the National Archives and Records Administration or General Services Administration for records management inspections conducted under 44 U.S.C. 2904 and 2906.

G. Disclosure to Contractors, Grantees, Etc.

Information may be disclosed to agency contractors, grantees, consultants, or volunteers who have been engaged to assist the agency in the performance of a contract, service, grant, cooperative agreement, job, or other activity for the NTSB related to this system of records and who need to have access to the records in order to perform the activity for the NTSB. This includes Federal agencies providing payroll, management, or administrative services to the NTSB. When appropriate, recipients shall be required to comply with the requirements of the Privacy Act of 1974 as provided at 5 U.S.C. 552a(m).

H. Disclosures for Administrative Claims, Complaints and Appeals

Information from this system of records may be disclosed to an authorized appeal grievance examiner, formal complaints examiner, equal employment opportunity investigator, arbitrator or other person properly engaged in investigation or settlement of an administrative grievance, complaint, claim, or appeal filed by an employee or former employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

I. Disclosure to the Office of Personnel Management

Information from this system of records may be disclosed to the Office of Personnel Management pursuant to that agency's responsibility for evaluation and oversight of Federal personnel management.

J. Disclosure in Connection With Litigation

Information from this system of records may be disclosed in connection with litigation or settlement discussions regarding claims by or against the NTSB, including public filing with a court, to the extent that disclosure of the information is relevant and necessary to the litigation or discussions and except where court orders are otherwise required under section (b)(11) of the Privacy Act of 1974, codified at 5 U.S.C. 552a(b)(11).

K. Disclosure to Persons or Entities in Response to an Actual or Suspected Compromise or Breach of Personally Identifiable Information

The NTSB may disclose information from any of the above-listed system of records to the appropriate agencies, entities, and/or persons when: (a) The NTSB suspects or has confirmed that the security or confidentiality of personally identifiable information in the system of records has been compromised; (b) the NTSB has determined that, as a result of the suspected or confirmed compromise, a risk of harm to economic or property interests, identity theft or fraud, or harm to the security or integrity of this system exists; and (c) the disclosure made to such agencies, entities, and persons is reasonably necessary to assist in connection with the NTSB's efforts to respond to the suspected or confirmed compromise and prevent, minimize, or remedy such harm.

Appendix B: General Routine Uses Applicable to All Systems of Records

As described in the above notices, some NTSB records may be located in the Government-wide systems of records listed below:

1. EEOC/GOVT-1 Equal Employment Opportunity in the Federal Government Complaint and Appeal Records.

2. DOL/GOVT-1 Office of Workers' Compensation Programs, Federal Employees' Compensation Act File.

3. GSA/GOVT-3 Travel Charge Card Program.

4. MSPB/GOVT-1 Appeals and Case Records.

5. OGE/GOVT-1 Executive Branch Personnel Public Financial Disclosure Reports and Other Name-Retrieved Ethics Program Records.

6. OGE/GOVT-2 Executive Branch Confidential Financial Disclosure Reports.

7. OPM/GOVT-1 General Personnel Records.

8. OPM/GOVT-2 Employee Performance File System Records.

9. OPM/GOVT-3 Records of Adverse Actions, Performance Based Reduction in Grade and Removal Actions, and Termination of Probationers.

10. OPM/GOVT-10 Employee Medical File System Records.

Dated: June 4, 2008.
Vicky D'Onofrio,
Federal Register Liaison Officer.

[FR Doc. E8-12873 Filed 6-11-08; 8:45 am]

BILLING CODE 7533-01-P